Environmental Protection Agency

40 CFR Part 63

[EPA-HQ-OAR-2017-0015; FRL-10009-60-OAR]

RIN 2060-AT08

National Emission Standards for Hazardous Air Pollutants: Lime Manufacturing Plants Residual Risk and Technology Review

AGENCY: Environmental Protection Agency (EPA).

ACTION: Final rule.

SUMMARY: This action finalizes the residual risk and technology review (RTR) conducted for the Lime Manufacturing source category regulated under national emission standards for hazardous air pollutants (NESHAP). In addition, we are taking final action addressing periods of startup, shutdown, and malfunction (SSM). These final amendments include new provisions requiring electronic reporting. We are finalizing our proposed determination that the risks are acceptable and that the current NESHAP provides an ample margin of safety to protect public health. We determined that there are no developments in practices, processes, or control technologies that necessitate revisions to the standards.

DATES: This final rule is effective on July 24, 2020. The incorporation by reference (IBR) of certain publications listed in the rule is approved by the Director of the Federal Register as of July 24, 2020.

ADDRESSES: The U.S. Environmental Protection Agency (EPA) has established a docket for this action under Docket ID No. EPA-HQ-OAR-2017-0015. All documents in the docket are listed on the https://www.regulations.gov/ website. Although listed, some information is not publicly available, e.g., Confidential Business Information or other information whose disclosure is restricted by statute. Certain other material, such as copyrighted material, is not placed on the internet and will be publicly available only in hard copy form. Publicly available docket materials are available electronically through https://www.regulations.gov/. Out of an abundance of caution for members of the public and our staff, the EPA Docket Center and Reading Room was closed to public visitors on March 31, 2020, to reduce the risk of transmitting COVID-19. Our Docket Center staff will continue to provide remote customer service via email, phone, and webform. There is a temporary suspension of mail delivery to the EPA, and no hand deliveries are currently accepted. For further information and updates on EPA Docket Center services and the current status, please visit us online at https://www.epa.gov/dockets.

FOR FURTHER INFORMATION CONTACT: For questions about this final action, contact Jim Eddinger, Sector Policies and Programs Division (D243-01), Office of Air Quality Planning and Standards, U.S. Environmental Protection Agency, Research Triangle Park, North Carolina 27711; telephone number: (919) 541-5426; and email address: eddinger.jim@epa.gov. For specific information regarding the risk modeling methodology, contact James Hirtz, Health and Environmental Impacts Division (C539-02), Office of Air Quality Planning and Standards, U.S. Environmental Protection Agency, Research Triangle Park, North Carolina 27711; telephone number: (919) 541-0881; and email address: hirtz.james@epa.gov. For information about the applicability of the NESHAP to a particular entity, contact Sara Ayres, Office of Enforcement and Compliance Assurance, U.S. Environmental Protection Agency, U.S. EPA Region 5 (Mail Code E-19), 77 West Jackson Boulevard, Chicago, Illinois 60604; telephone number: (312) 353-6266; and email address: ayres.sara@epa.gov.

SUPPLEMENTARY INFORMATION:

Preamble acronyms and abbreviations. We use multiple acronyms and terms in this preamble. While this list may not be exhaustive, to ease the reading of this preamble and for reference purposes, the EPA defines the following terms and acronyms here:

ACI activated carbon injection

AEGL acute exposure guideline level

ASME American Society of Mechanical Engineers

ASTM American Society for Testing and Materials

CAA Clean Air Act

CDX Central Data Exchange

CEDRI Compliance and Emissions Data Reporting Interface

CEMS continuous emission monitoring system

CFR Code of Federal Regulations

CRA Congressional Review Act

D/F dioxins and furans

EPA Environmental Protection Agency

ERPG emergency response planning guideline

ESP electrostatic precipitator

FF fabric filter

FTIR Fourier-transform infrared spectroscopy

HAP hazardous air pollutants(s)

HCl hydrochloric acid

HF hydrofluoric acid

HI hazard index

HQ hazard quotient

IBR incorporation by reference

ICR Information Collection Request

km kilometer

MACT maximum achievable control technology

MIR maximum individual risk

NAAQS National Ambient Air Quality Standards

NESHAP national emission standards for hazardous air pollutants

NTTAA National Technology Transfer and Advancement Act

OMB Office of Management and Budget

OM&M operations, maintenance, and monitoring

PB-HAP hazardous air pollutants known to be persistent and bio-accumulative in the environment

PM particulate matter

POM polycyclic organic matter

PRA Paperwork Reduction Act

PS Performance Specification

PSH processed stone handling

REL recommended exposure limit

RFA Regulatory Flexibility Act

RIN Regulatory Information Number

RTR Risk and Technology Review

SSM startup, shutdown, and malfunction

the Court United States Court of Appeals for the District of Columbia Circuit

TOSHI target organ-specific hazard index

tpy tons per year

UMRA Unfunded Mandates Reform Act

VCS voluntary consensus standard

Background information. On September 16, 2019, the EPA proposed revisions to the Lime Manufacturing Plants NESHAP based on our RTR. In this action, we are finalizing decisions and revisions for the rule. We summarize some of the more significant comments we timely received regarding the proposed rule and provide our responses in this preamble. A summary of all other public comments on the proposal and the EPA's responses to those comments is available in Summary of Public Comments and Responses for the Lime Manufacturing Plants Residual Risk and Technology Review, Docket ID No. EPA-HQ-OAR-2017-0015. A “track changes” version of the regulatory language that incorporates the changes in this action is available in the docket.

Organization of this document. The information in this preamble is organized as follows:

Table of Contents

I. General Information

A. Does this action apply to me?

B. Where can I get a copy of this document and other related information?

C. Judicial Review and Administrative Reconsideration

II. Background

A. What is the statutory authority for this action?

B. What is the Lime Manufacturing source category and how does the NESHAP regulate HAP emissions from the source category?

C. What changes did we propose for the Lime Manufacturing source category in our September 16, 2019, proposal?

III. What is included in this final rule?

A. What are the final rule amendments based on the risk review for the Lime Manufacturing source category?

B. What are the final rule amendments based on the technology review for the Lime Manufacturing source category?

C. What are the final rule amendments addressing emissions during periods of SSM?

D. What other changes have been made to the NESHAP?

E. What are the effective and compliance dates of the standards?

IV. What is the rationale for our final decisions and amendments for the Lime Manufacturing source category?

A. Residual Risk Review for the Lime Manufacturing Source Category

B. Technology Review for the Lime Manufacturing Source Category

C. SSM for the Lime Manufacturing Source Category

D. Electronic Reporting Requirements for the Lime Manufacturing Source Category

E. IBR

F. Technical and Editorial Changes for the Lime Manufacturing source category

V. Summary of Cost, Environmental, and Economic Impacts and Additional Analyses Conducted

A. What are the affected facilities?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR part 51

K. Executive Order 12898: Federal Actions to Address Environmental Justice in Minority Populations and Low-Income Populations

L. Congressional Review Act (CRA)

I. General Information

A. Does this action apply to me?

Regulated entities. Categories and entities potentially regulated by this action are shown in Table 1 of this preamble.

Table 1—NESHAP and Industrial Source Categories Affected by This Final Action
NESHAP and source category | NAICS¹ code
Lime Manufacturing Plants | 32741, 33111, 3314, 327125
¹ North American Industry Classification System.

Table 1 of this preamble is not intended to be exhaustive, but rather to provide a guide for readers regarding entities likely to be affected by the final action for the source category listed. To determine whether your facility is affected, you should examine the applicability criteria in the appropriate NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/lime-manufacturing-plants-national-emission-standards-hazardous-air. Following publication in the Federal Register, the EPA will post the Federal Register version and key technical documents at this same website.

Additional information is available on the RTR website at https://www.epa.gov/stationary-sources-air-pollution/risk-and-technology-review-national-emissions-standards-hazardous. This information includes an overview of the RTR program and links to project websites for the RTR source categories.

C. Judicial Review and Administrative Reconsideration

Under Clean Air Act (CAA) section 307(b)(1), judicial review of this final action is available only by filing a petition for review in the United States Court of Appeals for the District of Columbia Circuit (the Court) by September 22, 2020. Under CAA section 307(b)(2), the requirements established by this final rule may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of hazardous air pollutants (HAP) from stationary sources. In the first stage, we must identify categories of sources emitting one or more of the HAP listed in CAA section 112(b) and then promulgate technology-based NESHAP for those sources. “Major sources” are those that emit, or have the potential to emit, any single HAP at a rate of 10 tons per year (tpy) or more, or 25 tpy or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that reduce the volume of or eliminate HAP emissions through process changes, substitution of materials, or other modifications; enclose systems or processes to eliminate emissions; collect, capture, or treat HAP when released from a process, stack, storage, or fugitive emissions point; are design, equipment, work practice, or operational standards; or any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT standards for existing sources can be less stringent than floors for new sources, but they cannot be less stringent than the average emission limitation achieved by the best-performing 12 percent of existing sources in the category or subcategory (or the best-performing five sources for categories or subcategories with fewer than 30 sources). In developing MACT standards, we must also consider control options that are more stringent than the floor under CAA section 112(d)(2). We may establish standards more stringent than the floor, based on the consideration of the cost of achieving the emissions reductions, any non-air quality health and environmental impacts, and energy requirements.

In the second stage of the regulatory process, the CAA requires the EPA to undertake two different analyses, which we refer to as the technology review and the residual risk review. Under the technology review, we must review the technology-based standards and revise them “as necessary (taking into account developments in practices, processes, and control technologies)” no less frequently than every 8 years, pursuant to CAA section 112(d)(6). Under the residual risk review, we must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f).¹ For more information on the statutory authority for this rule, see 84 FR 48708, September 16, 2019.

¹ The Court has affirmed this approach of implementing CAA section 112(f)(2)(A): NRDC v. EPA, 529 F.3d 1077, 1083 (D.C. Cir. 2008) (“If EPA determines that the existing technology-based standards provide an ‘ample margin of safety,' then the Agency is free to readopt those standards during the residual risk rulemaking.”).

B. What is the Lime Manufacturing source category and how does the NESHAP regulate HAP emissions from the source category?

The EPA promulgated the Lime Manufacturing Plants NESHAP on January 5, 2004 (69 FR 394). The standards are codified at 40 CFR part 63, subpart AAAAA. The lime manufacturing industry consists of facilities that use a lime kiln to produce lime product from limestone by calcination. The source category covered by this MACT standard currently includes 35 facilities.

As promulgated in 2004, the NESHAP regulates HAP emissions from all new and existing lime manufacturing plants that are major sources, co-located with major sources, or are part of major sources. However, lime manufacturing plants located at pulp and paper mills or at beet sugar factories are not subject to the NESHAP. Other captive lime manufacturing plants, such as (but not limited to) those at steel mills and magnesia production facilities, are subject to the NESHAP. See 67 FR 78053 explaining the basis for these determinations. A lime manufacturing plant is defined as any plant which uses a lime kiln to produce lime product from limestone or other calcareous material by calcination. However, the NESHAP specifically excludes lime kilns that use only calcium carbonate waste sludge from water softening processes as the feedstock.

The NESHAP defines the affected source as follows: Each lime kiln and its associated cooler and each individual processed stone handling (PSH) operations system. The PSH operations system includes all equipment associated with PSH operations beginning at the process stone storage bin(s) or open storage pile(s) and ending where the process stone is fed into the kiln. It includes man-made process stone storage bins (but not open process stone storage piles), conveying system transfer points, bulk loading or unloading systems, screening operations, surge bins, bucket elevators, and belt conveyors. The materials processing operations associated with lime products, lime kiln dust handling, quarry or mining operations, limestone sizing operations, and fuels are not subject to the NESHAP. Finally, lime hydrators and cooler nuisance dust collectors are not included under the definition of affected source under the NESHAP.

The NESHAP established particulate matter (PM) emission limits for lime kilns, coolers, and PSH operations with stacks. The NESHAP also established opacity limits for PSH operations without stacks and for kilns equipped with electrostatic precipitators (ESP) and fabric filters (FF). For kilns equipped with wet scrubbers, the NESHAP established scrubbing liquid flow rate and exhaust gas stream pressure drop limits. PM serves as a surrogate for the non-volatile and semi-volatile metal HAP. The NESHAP also regulates opacity or visible emissions from most of the PSH operations, with opacity also serving as a surrogate for non-volatile and semivolatile HAP metals. Refer to section II.B of the proposal preamble (84 FR 48711, September 16, 2019) for additional information on the HAP emissions regulated by the NESHAP.

C. What changes did we propose for the Lime Manufacturing source category in our September 16, 2019, proposal?

On September 16, 2019, the EPA published a proposed rule in the Federal Register for the Lime Manufacturing Plants NESHAP, 40 CFR part 63, subpart AAAAA, that took into consideration the RTR analyses. In the proposed rule, we proposed:

• No revisions to the numerical emission limits based on the RTR;

• revisions to the SSM provisions of the NESHAP in order to ensure that they are consistent with the Court decision in Sierra Club v. EPA, 551 F. 3d 1019 (D.C. Cir. 2008), which vacated two provisions that exempted source owners and operators from the requirement to comply with otherwise applicable CAA section 112(d) emission standards during periods of SSM;

• a requirement for electronic submittal of notifications, semi-annual reports, and compliance reports (which includes performance test reports); and

• IBR of alternative test methods and references.

III. What is included in this final rule?

This action finalizes the EPA's determinations pursuant to the RTR provisions of CAA section 112 for the Lime Manufacturing source category. This action also finalizes other changes to the NESHAP, including revising the SSM provisions of the NESHAP; a requirement for electronic submittal of notifications, semi-annual reports, compliance reports, and performance test reports; adding an alternative test method to EPA Method 320; and IBR of alternative test methods and references to updated alternative test methods. This action also reflects several changes to the September 2019 proposal in consideration of comments received during the public comment period described in section IV of this preamble.

A. What are the final rule amendments based on the risk review for the Lime Manufacturing source category?

The EPA proposed no changes to 40 CFR part 63, subpart AAAAA NESHAP based on the risk review conducted pursuant to CAA section 112(f). In this action, we are finalizing our proposed determination that risks from the source category are acceptable, the standards provide an ample margin of safety to protect public health, and more stringent standards are not necessary to prevent an adverse environmental effect. The EPA received no new data or other information during the public comment period that causes us to change that proposed determination. Therefore, we are not making any revisions to the existing standards under CAA section 112(f), and we are readopting the existing standards.

B. What are the final rule amendments based on the technology review for the Lime Manufacturing source category?

We determined that there are no developments in practices, processes, and control technologies that necessitate revisions to the MACT standards for this source category. Therefore, we are not finalizing revisions to the MACT standards under CAA section 112(d)(6).

C. What are the final rule amendments addressing emissions during periods of SSM?

The EPA is finalizing, with some revisions, the proposed amendments to the Lime Manufacturing Plants NESHAP to remove and revise provisions related to SSM. In its 2008 decision in Sierra Club v. EPA, 551 F.3d 1019 (D.C. Cir. 2008), the Court vacated portions of two provisions in the EPA's CAA section 112 regulations governing the emissions of HAP during periods of SSM. Specifically, the Court vacated the SSM exemption contained in 40 CFR 63.6(f)(1) and (h)(1), holding that under section 302(k) of the CAA, emissions standards or limitations must be continuous in nature and that the SSM exemption violates the CAA's requirement that there must always be a CAA section 112 standard that applies. We are finalizing our proposal to eliminate the SSM exemption in this rule. As detailed in section IV.D of the proposal preamble (84 FR 48727, September 16, 2019), we proposed to require that the emission limitations apply at all times (see 40 CFR 63.7100(a)), consistent with the Court decision in Sierra Club v. EPA, 551 F. 3d 1019 (D.C. Cir. 2008).

We have also revised Table 8 to subpart AAAAA of part 63 (the General Provisions applicability table) in several respects, as is explained in more detail below in section IV.C. For example, we have eliminated the incorporation of the General Provisions' requirement that the source develops an SSM plan. We have also eliminated and revised certain recordkeeping and reporting that is related to the SSM exemption as described in detail in the proposal and summarized below in section IV.C. As discussed in the proposal preamble, these revisions are consistent with the requirement in 40 CFR 63.7100(a) that the standards apply at all times. Refer to section IV.C of this preamble for a detailed discussion of these amendments.

The EPA is finalizing standards for startup and shutdown that differ in some respects from the startup and shutdown standards that were proposed. Changes from the proposal to the standards for periods of startup and shutdown being finalized reflect the EPA's re-evaluation of appropriate startup and shutdown standards in light of public comments. The EPA's rationale for those changes is discussed in section IV.C. below.

The proposed definition of “Startup” has been revised by changing the wording from “lime product” to “on-specification lime product” and adding an alternate ending to startup. Commenters stated that the term “lime product” is not specific enough and that off-specification product is discharged almost simultaneously upon startup. In addition, the EPA is not finalizing the proposed work practices for periods of startup. For periods of startup, the EPA has instead established opacity emission limits for kilns equipped with FFs or ESPs. The EPA is not establishing different standards for kilns equipped with wet scrubbers during periods of startup and such kilns must comply with the same standard that apply at all other times. Also, during shutdown, kilns equipped with FFs, ESPs, or wet scrubbers must comply with the same standards that apply during normal operation. (See Table 2 of 40 CFR part 63, subpart AAAAA—Startup and Shutdown Emission Limits).

Further, the EPA is not finalizing different standards for malfunctions and sources must meet applicable standards during periods of malfunction. As discussed in the September 16, 2018, proposal preamble, the EPA interprets CAA section 112 as not requiring emissions that occur during periods of malfunction to be factored into development of CAA section 112 standards, although the EPA has the discretion to set standards for malfunctions where feasible. Refer to section IV.D of the proposal preamble for further discussion of the EPA's rationale for the decision not to set standards for malfunctions.

D. What other changes have been made to the NESHAP?

Consistent with the proposal, the EPA is finalizing the electronic reporting requirements, specifically that owners or operators of lime manufacturing plants submit electronic copies of required performance test reports, performance evaluation reports, and semiannual compliance reports through the EPA's Central Data Exchange (CDX) using the Compliance and Emissions Data Reporting Interface (CEDRI).

We are finalizing an alternative test method to EPA Method 320 and incorporating several test methods by reference, as discussed further in section IV.E of this preamble. We are also finalizing additional changes that address technical and editorial corrections, as proposed and as described in section IV.F of this preamble.

E. What are the effective and compliance dates of the standards?

The revisions to the MACT standards being promulgated in this action are effective on July 24, 2020. The compliance date for the revised requirements for affected sources that commenced construction or reconstruction on or before September 16, 2019, is January 20, 2021, with the exception of the vacated SSM exemptions contained in 40 CFR 63.6(f)(1) and (h)(1). We are revising Table 9 of 40 CFR part 63, subpart AAAAA to clarify that for all affected sources, these exemptions do not apply given the court vacatur in Sierra Club v. EPA, 551 F. 3d 1019 (D.C. Cir. 2008). The compliance date for the revised requirements for affected sources that commence construction or reconstruction after September 16, 2019, is July 24, 2020 or upon initial startup, whichever is later. We are finalizing changes, as proposed, that would impact ongoing compliance requirements for 40 CFR part 63, subpart AAAAA. As discussed elsewhere in this preamble, we are finalizing the requirement that performance test results, performance evaluation reports, and the semiannual reports using the new template be submitted electronically. We are also finalizing changes to the requirements for SSM. For example, we are removing the exemption from the requirements to meet the standard during SSM periods and removing the requirement to develop and implement an SSM plan, as proposed. Our experience with similar industries that have been required to convert reporting mechanisms, install necessary hardware, install necessary software, become familiar with the process of submitting performance test results electronically through the EPA's CEDRI, test these new electronic submission capabilities, reliably employ electronic reporting, and convert logistics of reporting processes to different time-reporting parameters, shows that a time period of a minimum of 90 days, and more typically, 180 days, is generally necessary to successfully complete these changes. Our experience with similar industries further shows that this sort of regulated facility generally requires a time period of 180 days to read and understand the amended rule requirements; evaluate their operations to ensure that they can meet the required standards during periods of startup and shutdown as defined in the rule and make any necessary adjustments; adjust parameter monitoring and recording systems to accommodate revisions; and update their operations to reflect the revised requirements. The EPA recognizes the confusion that multiple different compliance dates for individual requirements would create and the additional burden such an assortment of dates would impose. From our assessment of the timeframe needed for compliance with the entirety of the revised requirements, the EPA considers a period of 180 days to be the most expeditious compliance period practicable, and, thus, is finalizing the requirement that existing affected sources be in compliance with all of this regulation's revised requirements within 180 days of the regulation's effective date.

IV. What is the rationale for our final decisions and amendments for the Lime Manufacturing source category?

For each issue, this section provides a description of what we proposed and what we are finalizing for the issue, the EPA's rationale for the final decisions and amendments, and a summary of key comments and responses. For all comments not discussed in this preamble, comment summaries and the EPA's responses can be found in the comment summary and response document available in the docket.

A. Residual Risk Review for the Lime Manufacturing Source Category

1. What did we propose pursuant to CAA section 112(f) for the Lime Manufacturing source category?

Pursuant to CAA section 112(f), the EPA conducted a risk review and presented the results for the review, along with our proposed decisions regarding risk acceptability and ample margin of safety, in the September 16, 2019, proposed rule for the Lime Manufacturing source category (84 FR 48708). The results of the risk assessment are presented briefly in Table 1 of this preamble and in the risk report titled Residual Risk Assessment for the Lime Manufacturing Plants Source Category in Support of the 2019 Risk and Technology Review Proposed Rule, and sections III and IV of the proposal preamble (84 FR 48708, September 16, 2019) available in the docket for this action.

Table 1—Inhalation Risk Assessment Summary for Lime Manufacturing ¹ Source Category
Number of facilities ² | Maximum individual cancer risk (in 1 million) ³ based on . . .: Actual emissions level | Maximum individual cancer risk (in 1 million) ³ based on . . .: Allowable emissions level | Population at increased risk of cancer ≥ 1-in-1 million based on . . .: Actual emissions level | Population at increased risk of cancer ≥ 1-in-1 million based on . . .: Allowable emissions level | Annual cancer incidence (cases per year) based on . . .: Actual emissions level | Annual cancer incidence (cases per year) based on . . .: Allowable emissions level | Maximum chronic noncancer TOSHI ⁴ based on . . .: Actual emissions level | Maximum chronic noncancer TOSHI ⁴ based on . . .: Allowable emissions level | Maximum screening acute noncancer HQ ⁵ based on actual emissions level
35 | 1 | 2 | 12 | 450 | 0.001 | 0.003 | 0.04 | 0.05 | 0.6 (REL)
¹ Based on actual and allowable emissions.
² Number of facilities evaluated in the risk assessment. Includes 35 operating facilities subject to 40 CFR part 63, subpart AAAAA.
³ Maximum individual excess lifetime cancer risk due to HAP emissions from the source category.
⁴ Maximum target organ-specific hazard index (TOSHI). The target organ with the highest TOSHI for the Lime Manufacturing source category is the respiratory system.
⁵ The maximum estimated acute exposure concentration was divided by available short-term threshold values to develop an array of hazard quotient (HQ) values. The acute HQ shown was based upon the lowest acute 1-hour dose-response value, the recommended exposure limit (REL) for elemental mercury. When an HQ exceeds 1, we also show the HQ using the next lowest available acute dose-response value.

The results of the chronic inhalation cancer risk assessment, based on actual emissions, show the estimated maximum individual cancer risk (MIR) posed by the 35 facilities is 1-in-1 million, with metals, aldehydes, and organic HAP emissions from the lime kiln and cooler exhaust as the major contributors to the risk. The total estimated cancer incidence based on actual emission levels is 0.001 excess cancer cases per year, or one excess case every 1,000 years. About 12 people are estimated to have cancer risks greater than or equal to 1-in-1 million based on actual emissions from HAP emitted from the 35 facilities in this source category. The maximum chronic noncancer hazard index (HI) for the source category is estimated to be less than 1 (0.04) based on actual emissions of hydrochloric acid (HCl), nickel compounds, and acrolein emitted from lime kiln and cooler exhaust. No one is estimated to have a TOSHI greater than 1 based on actual emissions.

The EPA also evaluated the cancer risk at the maximum emissions allowed by the MACT standard, or “MACT-allowable emissions.” Risk results from the inhalation risk assessment using the MACT-allowable emissions indicate that the cancer MIR is 2-in-1 million with metals, aldehydes, and organic HAP emissions from lime kiln and cooler exhaust driving the risks, and that the maximum chronic noncancer TOSHI value is 0.05 with HCl, nickel compounds, and acrolein emissions from lime kiln and cooler exhaust driving the TOSHI. The total cancer incidence estimated based on allowable emissions from this source category is 0.003 excess cancer cases per year or one excess case every 333 years. Based on MACT-allowable emission rates, approximately 450 people are estimated to have cancer risks above 1-in-1 million. No people are estimated to have a noncancer HI above 1 based on allowable emissions.

For the Lime Manufacturing source category, the maximum acute HQ is 0.6 based on the REL, driven by actual emissions of elemental mercury. By definition, the acute REL represents a health-protective level of exposure, with effects not anticipated below those levels, even for repeated exposures.

We also conducted a multipathway screening assessment for the source category, and the results of the screening assessment are presented in the risk report titled Residual Risk Assessment for the Lime Manufacturing Plants Source Category in Support of the 2019 Risk and Technology Review Proposed Rule, and section IV of the proposal preamble (84 FR 48708, September 16, 2019) available in the docket for this action. A screening value is not an estimate of the cancer risk or a noncancer HQ (or HI). Rather, a screening value represents a high-end estimate of what the risk or HQ may be. For this source category the highest screening values were from mercury emissions, with a Tier 2 screening value of 5 and a Tier 3 screening value of 2 for this noncarcinogen. We are confident that if a refined multipathway risk assessment was conducted, the HQ for mercury would be lower than 2. Further details on the Tier 3 screening assessment can be found in Appendix 11 of Residual Risk Assessment for the Lime Manufacturing Source Category in Support of the Risk and Technology Review 2019 Proposed Rule. Dioxin and arsenic emissions resulted in a Tier 2 cancer screening value of 20, which means that we are confident that the multipathway cancer risk is lower than 20-in-1 million.

The EPA has determined that it is not necessary to go beyond the Tier 3 assessment for mercury (to a site-specific assessment) or beyond the Tier 2 cancer screening assessment. As explained above, the mercury screening value of 2 is a high-end estimate of what the risk or hazard may be and can be interpreted to mean that we are confident that the HQ would be lower than 2. Similarly, we are confident that the excess cancer risk is less than 20-in-1 million, and evaluation under Tier 3 or a site-specific assessment would further reduce the estimated risk. Further, risk results from four site-specific mercury assessments the EPA has conducted for four RTR source categories resulted in noncancer HQs that range from 50 times to 800 times lower than the respective Tier 2 mercury screening value for those facilities (refer to Docket ID No. EPA-HQ-OAR-2017-0015 for a copy of these reports).² Based on our review of these analyses, we expect if we were to perform a site-specific assessment for the Lime Manufacturing source category, the mercury HQ would be at least a one order of magnitude less than the Tier 2 non-cancer screening value for mercury. Thus, the EPA is confident that the mercury HQ would be less than 1, if further refined to incorporate enhanced site-specific analyses such as improved model boundary identification with improved soil/water run-off calculations and AERMOD deposition outputs used in the TRIM.FaTE model.

² EPA Docket records: Appendix 11 of the Residual Risk Assessment for the Taconite Manufacturing Source Category in Support of the Risk and Technology Review 2019 Proposed Rule; Appendix 11 of the Residual Risk Assessment for the Integrated Iron and Steel Source Category in Support of the Risk and Technology Review 2019 Proposed Rule; Appendix 11 of the Residual Risk Assessment for the Portland Cement Manufacturing Source Category in Support of the 2018 Risk and Technology Review Final Rule; and Appendix 11 of the Residual Risk Assessment for the Coal and Oil-Fired EGU Source Category in Support of the 2018 Risk and Technology Review Proposed Rule.

In evaluating the potential for multipathway effects from emissions of lead, the EPA compared modeled annual lead concentrations to the secondary National Ambient Air Quality Standards (NAAQS) level for lead (0.15 milligram per cubic meter (mg/m³), arithmetic mean concentration over a 3-month period). The highest annual average lead concentration, 0.0007 mg/m³, is far below the NAAQS level for lead, indicating a low potential for multipathway impacts.

The EPA also conducted an environmental risk screening assessment for the Lime Manufacturing source category for the following pollutants: Arsenic, cadmium, dioxins and furans (D/F), HCl, hydrogen fluoride (HF), lead, mercury (methyl mercury and mercuric chloride), and polycyclic organic matter (POM). In the Tier 1 screening analysis for HAP known to be persistent and bio-accumulative in the environment (PB-HAP) (other than lead, which was evaluated differently), arsenic, cadmium, and POM emissions had no exceedances of any of the ecological benchmarks evaluated. D/F emissions had a Tier 1 exceedance at 31 facilities for a surface soil benchmark by a maximum screening value of 30. Divalent mercury emissions had Tier 1 exceedances for the following benchmarks: Sediment threshold level (one facility), surface soil threshold level—plant communities (25 facilities), and surface soil threshold level—invertebrate communities (32 facilities) by a maximum screening value of 20. Methyl mercury emissions had Tier 1 exceedances for the following benchmarks: Fish (avian/piscivores) NOAEL—Merganser (one facility), surface soil no-observed-adverse-effect-level (NOAEL) for mammalian insectivores—shrew (13 facilities), and surface soil NOAEL for avian ground insectivores—woodcock (33 facilities) by a maximum screening value of 40. A Tier 2 screening analysis was performed for D/F, divalent mercury, and methyl mercury emissions. In the Tier 2 screening analysis, there were no exceedances of any of the ecological benchmarks evaluated for any of the pollutants. For lead, we did not estimate any exceedances of the secondary lead NAAQS. For HCl and HF, the average modeled concentration around each facility (i.e., the average concentration of all off-site data points in the modeling domain) did not exceed any ecological benchmark. In addition, each individual modeled concentration of HCl and HF (i.e., each off-site data point in the modeling domain) was below the ecological benchmarks for all facilities. Based on the results of the environmental risk screening analysis, we do not expect an adverse environmental effect as a result of HAP emissions from this source category.

An assessment of risk from facility-wide actual emissions was performed to provide context for the source category risks. The maximum lifetime individual cancer risk posed by the 35 facilities, based on facility-wide emissions, is 1-in-1 million (estimated for three facilities), with arsenic, chromium (VI) compounds, and nickel emissions from fugitive PSH operations driving the risk. The total estimated cancer incidence from facility-wide emissions is 0.004 excess cancer cases per year, or one case in every 250 years. Approximately 30 people are estimated to have cancer risk equal to 1-in-1 million from facility-wide emissions. The maximum facility-wide chronic noncancer TOSHI is estimated to be less than 1 (0.4), mainly driven by emissions of HCl from a facility-wide fugitive area source.

To examine the potential for any environmental justice issues that might be associated with the source category, the EPA performed a demographic analysis, which is an assessment of risk to individual demographic groups of the populations living within 5 kilometers (km) and within 50 km of the facilities. The results of the Lime Manufacturing source category demographic analysis indicated that emissions from the source category expose approximately 12 people to a cancer risk at or above 1-in-1 million and no people to a chronic noncancer TOSHI greater than 1. The percentages of the at-risk population indicated that three of the 10 demographic groups (White, African American and people below the poverty level) that are living within 50 km of facilities in the source category exceeded the corresponding national percentage for the same demographic groups. The methodology and the results of the demographic analysis are presented in a technical report, Risk and Technology Review—Analysis of Demographic Factors for Populations Living Near Lime Manufacturing Source Category Operations, available in the docket for this action.

The EPA weighed all health risk factors in our risk acceptability determination, and we proposed that the residual risks from this source category are acceptable. We then considered whether the NESHAP provides an ample margin of safety to protect public health, and whether more stringent standards were necessary to prevent an adverse environmental effect, by taking into consideration costs, energy, safety, and other relevant factors. In determining whether the standards provide an ample margin of safety to protect public health, we examined the same risk factors that we investigated for our acceptability determination and also considered the costs, technological feasibility, and other relevant factors related to emissions control options that might reduce risk associated with emissions from the source category. We proposed that the 2004 Lime Manufacturing Plants NESHAP requirements provide an ample margin of safety to protect public health. Based on the results of our environmental risk screening assessment, we also proposed that more stringent standards are not necessary to prevent an adverse environmental effect.

2. How did the risk review change for the Lime Manufacturing source category?

Since proposal, neither the risk assessment nor our determinations regarding risk acceptability, ample margin of safety, or adverse environmental effects have changed.

3. What key comments did we receive on the risk review, and what are our responses?

Additional comments and our specific responses can be found in the comment summary and response document titled Summary of Public Comments and Responses for Lime Manufacturing Plants Residual Risk and Technology Review, which is available in the docket for this action. The EPA received comments in support of and opposed to the proposed risk review and our determination that no revisions were warranted under CAA section 112(f)(2). Key comments and responses are discussed below.

Comment: One commenter stated that there are substantial health threats from the lime manufacturing industry. The commenter stated that it is unlawful, arbitrary and capricious for the EPA to do nothing to reduce any of these emissions or resulting health threats from lime manufacturing. The commenter stated that the EPA may not lawfully or rationally find health risks to be “acceptable” under CAA section 112(f)(2) when the record shows the opposite, and the EPA has ignored significant health impacts. The commenter stated that the EPA's proposal is incomplete and based on analyses that underestimate and ignore the health risks from the toxic pollution that lime manufacturing facilities emit into communities.

Response: The EPA disagrees with the comment. Results of the EPA's risk assessment for the Lime Manufacturing source category indicate that both the actual and allowable inhalation cancer risks to the individual most exposed are less than or equal to 2-in-1 million, well below the presumptive limit of acceptability of 100-in-1 million. The actual and allowable inhalation noncancer risks to the individual most exposed are below a HQ of 1. Based on the conservative nature of the multipathway screens, we find the Tier 2 screening values (D/F and arsenic) for cancer and Tier 3 noncancer screening values (cadmium and mercury) acceptable for the Lime Manufacturing source category. This determination is based upon the upper-bound cancer screening values of 20 being significantly below an excess cancer risk of 100-in-1 million and on results from facility-specific assessments for mercury performed for other source categories. Based upon this experience, we conclude that if we were to conduct a site-specific risk assessment for the Lime Manufacturing source category, the risk would result in a HQ value of 1 or lower. For this reason and considering the conservative nature of the multipathway exposure screening scenario, no further analysis was performed. In our ample margin of safety analysis, we investigated available emissions control options that might reduce the risk from the source category. We considered this information along with all of the health risks and other health information considered in our determination of risk acceptability. As part of the proposed ample margin of safety analysis, we considered activated carbon injection (ACI) systems, which have not been used or demonstrated on lime kilns, for controlling D/F and mercury emissions. In both cases, considering the potential negligible reductions in emissions and the results of our risk analysis, we concluded that the use of ACI would have little effect on the source category risks. Due to the already low risk, along with the substantial costs associated with more stringent standards, we determined that additional emissions controls for this source category were not required to provide an ample margin of safety to protect public health. We have retained this determination in the final rule. We note that the commenter did not provide detail or supporting documentation for their comment.

Comment: A commenter urged the EPA to set stronger standards to bring further protection to communities from lime manufacturing facilities. The commenter requested that the EPA consider the people exposed to these facilities' emissions and affected by its proposed decision not to strengthen the emission limits. The commenter urged the EPA to exercise its legal authority to end unacceptable risk for exposed communities and set the “ample margin of safety to protect public health” and prevent an adverse environmental effect, instead of attempting to avoid the science and the health threats shown in the record.

Response: The risk assessment demonstrated that health risks due to air emissions from lime manufacturing sources are acceptable and after considering available control options and all available risk information, the EPA concluded that the current standards provide an ample margin of safety to protect public health. These conclusions support the EPA's decision to not revise the existing emission limits. However, we have amended the final rule to make corrections to certain provisions and have amended provisions to clarify their intent and these revisions will result in improved monitoring and compliance with and implementation of the rule. In addition, the elimination of the SSM exemption may result in lower HAP emissions.

Comment: A commenter stated that the EPA underestimated the health threats to children and from early-life exposure by ignoring increased risk in childhood and from prenatal exposure.

Response: The EPA disagrees with the comment that the risk assessment for this source category does not consider the groups that may be most at-risk (e.g., children). When the EPA derives exposure reference concentrations and unit risk estimates for metal HAP, it also considers the most sensitive populations identified in the available literature and, importantly, these are the values used in our risk assessments.

We acknowledge that population subgroups, including children, may have a potential for risk that is greater than the general population due to greater relative exposure and/or greater susceptibility to the toxicant. The assessments we undertake to estimate risk account for this potential vulnerability, for example; the EPA includes exposure from D/F through ingestion of breast-milk for infants less than 1 year of age. The EPA also estimates age-specific risks to account for the higher sensitivity of developing children to mutagens. With respect to inhalation exposure, the risk assessments we perform implicitly account for this greater potential for exposure by assuming lifetime exposure, in which populations are conservatively presumed to be exposed to airborne concentrations at their residence continuously, 24 hours per day for a full lifetime, including childhood. With regard to children's potentially greater susceptibility to noncancer toxicants, the assessments rely on the EPA's (or comparable) hazard identification and dose-response values that have been developed to be protective for all subgroups of the general population, including children.

For example, a review of the chronic reference value process concluded that the EPA's reference concentration (RfC) derivation processes adequately considered potential susceptibility of different subgroups with specific consideration of children, such that the resultant RfC values pertain to the full human population, “including sensitive subgroups,” a phrase which is inclusive of childhood.³ With respect to cancer, the EPA uses the age-dependent adjustment factor approach referred to by the commenter but limits the use of those factors only to carcinogenic pollutants that are known to act via mutagenic mode of action (MOA), in contrast to the California Office of Environmental Health Hazard Assessment approach, which uses them across the board for all carcinogens regardless of MOA. In lieu of chemical-specific data on which age or life-stage specific risk estimates or potencies can be determined, default age dependent adjustment factors can be applied when assessing cancer risk for early-life exposures to chemicals that cause cancer through a mutagenic MOA. With regard to other carcinogenic pollutants for which early-life susceptibility data are lacking, it is the EPA's long-standing science policy position that use of the linear low-dose extrapolation approach (without further adjustment) provides adequate public health conservatism in the absence of chemical-specific data indicating differential early-life susceptibility or when the mode of action is not mutagenicity. The basis for this methodology is provided in the 2005 Supplemental Guidance.⁴

³ USEPA, 1994. Methods for derivation of inhalation reference concentrations and application of inhalation dosimetry. EPA/600/8-90/066F; https://www.epa.gov/sites/production/files/2014-11/documents/rfc_methodology.pdf.

⁴ USEPA, 2005b. Supplemental guidance for assessing early-life exposure to carcinogens. EPA/630/R-03003F. https://www3.epa.gov/ttn/atw/childrens_supplement_final.pdf.

The estimated risks must be considered in the context of the full set of assumptions used for this risk assessment. Our unit risk estimates for HAP are considered a plausible upper-bound estimate with an appropriate age dependent adjustment; actual potency is likely to be lower and could be as low as zero. Our chronic noncancer reference values have been derived considering the potential susceptibility of different subgroups, with specific consideration of children.

Comment: One commenter stated that the EPA underestimated health threats to communities exposed to multiple sources by neglecting to add factors to account for the increased risks caused by such exposure. The commenter stated that the EPA underestimated the cancer, chronic noncancer, and acute health risks by using modeling assumptions that ignore real-world exposures, underestimating risk from chemicals such as benzene and lead due to the EPA's refusal to follow the best available science, and neglecting to aggregate cumulative risks.

Response: The EPA's chronic risk assessment modeling accounts for cumulative cancer risks from emitted carcinogens and for pollutants that have similar modes of action or (where this information is absent) that affect the same target organ, we aggregated the HQs. This process creates, for each target organ, a TOSHI, defined as the sum of HQs for individual HAP that affect the same organ or organ system.

The modeling conducted also includes the effects of multiple facilities that may be in close proximity when estimating concentration and risk impacts at each block centroid. When evaluating the risks associated with a particular source category, we combined the impacts of all facilities within the same source category and assessed chronic exposure and risk for all census blocks with at least one resident (i.e., locations where people may reasonably be assumed to reside rather than receptor points at the fenceline of a facility). The MIR considers the combined impacts of all sources in the category that may be in close proximity. This approach is similar for those facilities within the source category that have an associated or cumulative impact on neighboring lakes as it relates to assessing multi-pathway impacts for each of the PB-HAP. Background risks or contributions to risk from sources outside the source category under review could be one of the relevant factors considered in the ample margin of safety determination, along with cost and economic factors, technological feasibility, and other factors. Background risks and contributions to risk from sources outside the facilities under review were not considered in the ample margin of safety determination for this source category, mainly because of the significant uncertainties associated with emissions estimates for such sources. Our approach here is consistent with the approach we took regarding this issue in the Hazardous Organic NESHAP (HON) RTR (71 FR 76603, December 21, 2006), which the Court upheld in the face of claims that the EPA had not adequately considered background (NRDC v. EPA, 529 F.3d 1077 (D.C. Cir. 2008)).

Comment: A commenter stated that the EPA has ignored all multipathway cancer and noncancer chronic health risks that result when persistent or bioaccumulative pollutants emitted by lime manufacturing facilities fall into the Great Lakes, bays, rivers, and other large waterbodies. The commenter stated that by excluding all impacts from deposition in these waterbodies, the EPA ignored both health threats and ecological threats, and violated its legal obligation to assess health and environmental risk and reduce these hazards as the statute directs.

Response: Very large lakes and bays (i.e., those larger than 100,000 acres) are not considered because their large volumes significantly dilute air deposition from point sources. Such large lakes, including the Great Lakes, the Great Salt Lake, Lake Okeechobee, Lake Pontchartrain, Lake Champlain, Green Bay, and Galveston Bay also dilute contaminants in the vast biomass of fish in the large aquatic food webs. Contaminants derived from emissions to air by a point source would be distributed among populations of millions of fish resulting in negligible increases in fish tissue concentrations attributable to the point source. Also, very large lakes are rare (only 35 such lakes exist in the conterminous United States). Moreover, for facilities near large lakes, there usually are other, smaller lakes that the EPA does consider for which contaminant dilution would be lower, and, therefore, for which human health and ecological risks would be higher. Thus, the EPA does model exposure via fish consumption for populations that are near large lakes in a manner that generally will be more health protective than modeling the very large lake. The EPA also does not model lakes adjacent or connected to a river or saltwater body (estuaries and rivers) or bays; these waterbodies are likely to have high outflow with limited chemical retention. Less retention time for these types of waterbodies result in significantly lower media concentrations when compared to lakes.

4. What is the rationale for our final approach and final decisions for the risk review?

The EPA evaluated all of the comments on the EPA's risk review and determined that no changes to the review are needed. In the proposed rule, we proposed that the risks from the Lime Manufacturing source category are acceptable, the current standards provide an ample margin of safety to protect public health, and more stringent standards are not necessary to prevent an adverse environmental effect. For the reasons explained in the proposal and in our responses to public comments and pursuant to CAA section 112(f)(2), we are finalizing our risk review as proposed.

B. Technology Review for the Lime Manufacturing Source Category

1. What did we propose pursuant to CAA section 112(d)(6) for the Lime Manufacturing source category?

Pursuant to CAA section 112(d)(6), the EPA conducted a technology review, which focused on identifying and evaluating developments in practices, processes, and control technologies that would necessitate revision to the existing emission standards for the Lime Manufacturing source category. No cost-effective developments in practices, processes, or control technologies were identified in our technology review to necessitate revisions to the PM or opacity standards, which are both used as a surrogate for HAP metals, standards. More information concerning our technology review is in the memorandum titled Technology Review for the Lime Manufacturing Source Category, which is in the docket for this action, and in the preamble to the proposed rule (84 FR 48726).

2. How did the technology review change for the Lime Manufacturing source category?

The technology review has not changed since proposal.

3. What key comments did we receive on the technology review, and what are our responses?

The EPA received comments in support of the proposed determination from the technology review that no revisions were necessary under CAA section 112(d)(6). We also received comments asserting that the technology review was inadequate for a variety of reasons, primarily because of failure to consider control technologies for unregulated HAP emissions.

Comment: A commenter stated the EPA does not discuss or perform any review under CAA section 112(d)(6) for all emitted HAP. The commenter noted that the EPA failed to complete a technology review for HCl, mercury, D/F, and organic HAP. The commenter stated that the EPA cannot determine whether developments in pollution control make it “necessary” to revise the emission standards without determining what developments have occurred for these HAP. The commenter stated that the fact that these HAP are emitted from the source category requires the EPA to evaluate them pursuant the technology review.

Response: Section 112(d)(6) of the CAA requires the EPA to “review and revise, as necessary (taking into account developments in practices, processes, and control technologies), emission standards promulgated under this section . . . .” The EPA reads CAA section 112(d)(6) as a limited provision requiring the Agency to review the original emission standards already promulgated and to revise those standards as necessary, taking into account developments in practices, processes, and control technologies. Under this reading, section 112(d)(6) of the CAA does not impose upon the Agency any obligation to promulgate new emission standards or expand the scope of an existing regulation.⁵ Accordingly, we disagree with the commenter that CAA section 112(d)(6) requires a technology review for HCl, mercury, D/F, and organic HAP. The EPA notes that we have completed our statutory requirements under CAA section 112(d)(6) in reference to the promulgated standards.

⁵ On April 21, 2020, as the Agency was preparing the final rule for signature, a decision was issued in LEAN v. EPA, 955 F. 3d. 1088 (D.C. Cir. 2020) in which the Court held that the EPA has an obligation to set standards for unregulated pollutants as part of technology reviews under CAA section 112(d)(6). At the time of signature, the mandate in that case had not been issued and the EPA is continuing to evaluate the decision.

Any new MACT standards would not be established pursuant to CAA section 112(d)(6), but instead would be established under CAA sections 112(d)(2) and (3) or CAA section 112(h). Establishing emissions standards under CAA sections 112(d)(2) and (3) or 112(h) involves a different analytical approach than reviewing emissions standards under CAA section 112(d)(6).

Comment: One commenter stated that there are multiple HAP emitted from the Lime Manufacturing source category that have no numeric emission standards, including HCl, organic HAP (e.g., formaldehyde, styrene), mercury, and D/F. The commenter stated that CAA section 112(d) requires limits for each HAP that a source category emits and that CAA section 112(d)(6) requires the EPA to review and revise its existing emission standards “as necessary.” The commenter stated that when the EPA reviewed the Lime Manufacturing source category and found that they lack emission limits for emitted HAP, it is necessary under CAA section 112(d)(6) to revise the standard (i.e., set limits for these HAP). The commenter noted that the EPA's failure to set emission limits for these HAP causes public suffering from uncontrolled exposure to these HAP.

The commenter cited prior court rulings that found that the Agency has a “clear statutory obligation to set emission standards for each listed HAP.” [National Lime Ass'n, 233 F.3d 625, 634 (D.C. Cir. 2000) and Sierra Club v. EPA, 479 F.3d 875, 883 (D.C. Cir. 2007)] The commenter cited prior rulemakings where the EPA has acknowledged this issue and has subsequently set emission limits for pollutants without standards.

The commenter noted that the Lime Manufacturing Plants RTR clearly demonstrates that these pollutants are emitted from the source category, but that the EPA has not acknowledged its obligation to set limits on these uncontrolled HAP and has not explained why it is not “necessary” to revise the existing standards to set limits for these HAP. The commenter stated that the EPA has emissions data from at least some sources, and it must complete its obligation to set a limit for these HAP.

The commenter stated that it is unlawful and arbitrary for the EPA not to set limits for these HAP in this rulemaking. The commenter stated that if the EPA does not do this, it will fail to complete the review and revision rulemaking as CAA section 112(d)(6) requires, will violate the Court's order in California Communities Against Toxics v. Pruitt, 241 F. Supp. 3d 199 (D.C. 2017), and will also issue a final rule that is unlawful and inadequate.

Response: CAA section 112(d)(6) requires the EPA to review and revise, as necessary (taking into account developments in practices, processes, and control technologies), emission standards promulgated under this section. We do not read section CAA section 112(d)(6) as supporting the commenter's assertion that the EPA must establish new standards for unregulated emission points or pollutants as part of a technology review of the existing standards (but see footnote 5). The EPA reads CAA section 112(d)(6) as a limited provision requiring the Agency to, at least every 8 years, review the emission standards already promulgated in the NESHAP and to revise those standards as necessary taking into account developments in practices, processes, and control technologies. The EPA does not read CAA section 112(d)(6) as directing the Agency, as part of or in conjunction with the mandatory 8-year technology review, to develop new emission standards to address HAP or emission points for which standards were not previously promulgated.

When the EPA established standards for previously unregulated emissions, we did not establish those initial standards pursuant to CAA section 112(d)(6) but instead established the standards under one of the provisions that govern initial standard setting—CAA sections 112(d)(2) and (3) or, if the prerequisites are met, CAA sections 112(d)(4) or 112(h). Establishing emissions standards under these provisions of the CAA involves a different analytical approach from reviewing emissions standards under CAA section 112(d)(6).

Additional comments and our specific responses can be found in the comment summary and response document titled Summary of Public Comments and Responses for Lime Manufacturing Plants Residual Risk and Technology Review, which is available in the docket for this action.

4. What is the rationale for our final approach for the technology review?

The EPA evaluated all of the comments on the EPA's technology review and determined that no changes to the review are needed. For the reasons explained in the proposed rule, we determined that no cost-effective developments in practices, processes, or control technologies were identified in our technology review to necessitate revisions to the standards. More information concerning our technology review can be found in the memorandum titled Technology Review for the Lime Manufacturing Source Category, which is in the docket for this action. Therefore, pursuant to CAA section 112(d)(6), we are finalizing our technology review as proposed.

C. SSM for the Lime Manufacturing Source Category

1. What did we propose for the Lime Manufacturing source category?

The EPA proposed amendments to the Lime Manufacturing Plants NESHAP to remove and revise provisions related to SSM that are not consistent with the requirement that the standards apply at all times or that are unnecessary or redundant in the absence of an SSM exemption. More information concerning the elimination of SSM provisions is in the preamble to the proposed rule (84 FR 48708, September 16, 2019).

2. How did the SSM provisions change from proposal for the Lime Manufacturing source category?

The EPA is finalizing the SSM provisions with the following changes from the proposal:

• Replacing the proposed startup work practice standards for kilns and coolers equipped with a FF or ESP with opacity emission standards.

• Replacing the proposed startup work practice standards for kilns and coolers equipped with a wet scrubber with a requirement to meet standards applicable during normal operation.

• Revising the definition of “Startup” to add “on-specification” prior to “lime product” and to add an alternate ending to startup.

• Adding testing requirements for determining when lime product is deemed on-specification.

With respect to the revisions to the proposed startup standards, the EPA is finalizing standards for startup that differ from what we proposed based on a re-evaluation of the need for work practice standards. The EPA proposed work practice standards for kilns equipped with wet scrubbers, FFs, and ESPs. However, the final rule requires kilns and coolers that are equipped with ESPs or FFs to meet numerical opacity limits and kilns and coolers equipped with wet scrubbers to meet the scrubbing liquid flow rate requirements that apply during normal operations. The EPA's determination in the proposed rule (84 FR 48727) that work practice standards were appropriate was based on a finding that the application of measurement methodology for PM emissions was impracticable because the test methods required for compliance are to be conducted under steady-state conditions which are difficult to achieve during startup. In addition to the reference test method (EPA Method 5), we considered PM emission monitors, which also requires steady-state conditions. However, based on comments claiming that the EPA has not shown a lack of practicable measurement methodology for startup periods, we reconsidered the issue. The 2004 final NESHAP rule established opacity as an emission standard limiting PM emissions. We are not aware of factors that would prevent the monitoring of opacity during startup periods.

For kilns equipped with FFs or ESPs, 40 CFR part 63, subpart AAAAA allows compliance with opacity standards to ensure PM is controlled between stack tests.⁶ In this rule, for periods of startup, the EPA is requiring kilns equipped with FFs or ESPs to meet the 15-percent opacity limit that applies during normal operation averaged over the period of startup. The EPA has determined that a longer averaging time is appropriate for startup periods since we are aware that emissions during startup can be variable in light of the sequence of events that occur during startup of a kiln. Thus, the longer averaging time being finalized is to account for this variability that could result in spikes in opacity during the startup period. During startup, even the best performing units are constantly making adjustments in terms of fuel flow and combustion air flow rate. Every increase in fuel rate or feed rate requires the source to adjust air flow to the proper level. Each adjustment can lead to a spike in opacity. Accounting for such variability in setting emission standards is consistent with the CAA case law. See, United States Sugar Corp. v. EPA, 830 F.3d 579, 632 (D.C. Cir. 2016) (“We have held, see Mossville Envtl. Action Now v. EPA, 370 F.3d 1232, 1242 (D.C. Cir. 2004), and recently reaffirmed, see NACWA, 734 F.3d at 1133-34, that the EPA can consider this variability when setting MACT floors.”). As proposed, the EPA is not establishing different shutdown standards for kilns equipped wth FFs or wet scrubbers and, thus, such kilns must meet otherwise applicable limits during shutdown.

⁶ The EPA notes that under 40 CFR part 63, subpart AAAAA stack testing is not permitted during startup and shutdown. As proposed, this rule replaces the reference in Table 9 to 40 CFR 63.7(e)(1) (which prohibits performance testing during periods of startup and shutdown) with identical language at 40 CFR 63.7112(c)).

3. What key comments did we receive on the SSM provisions, and what are our responses?

The EPA received 16 comments related to our proposed revisions to the SSM provisions. Commenters generally supported the proposed removal of the SSM exemptions but disagreed with either the proposing of work practice standards for the startup period or certain aspects of the proposed work practice standards. We evaluated the comments and determined that changes to the proposed SSM provisions are warranted. A summary of these comments and our responses are located in the memorandum titled Summary of Public Comments and Responses for Lime Manufacturing Plants Residual Risk and Technology Review, which is in the docket for this action.

Comment: Commenters stated that the EPA's work practice standard requiring all kilns to start and operate on “clean fuels” until the kiln reaches a temperature of 1200 degrees Fahrenheit is unnecessary, not based on information in the administrative record, inconsistent with processes required to safely and properly commence kiln operation, and, for some kilns, is impractical based on the realities of operating kilns in the lime industry.

The commenters stated that for operational and safety reasons, electrostatic precipitators (ESP) cannot be started immediately to effectively remove PM upon startup of the kiln. Therefore, the clean fuel work practice for startup makes sense for ESP-equipped kilns. The commenters confirmed that the limited number of ESP-equipped kilns in the lime industry can be started on natural gas or other listed clean fuels.

The commenters stated that for baghouse and scrubber-equipped kilns, clean fuel startup is not needed because the air pollution control device is operating at the beginning of startup and begins removing PM immediately. The commenters stated that since stone feed rates are low during startup, total PM emissions exiting the kiln will be less than during normal operation, and the operating air pollution control devices will ensure that PM will be removed. The commenters also noted that clean fuels are not available at all lime manufacturing locations (for example, natural gas is not readily available in areas far from gas pipelines).

The commenters stated that the proposed requirement to meet the opacity and scrubber liquid flow rate operating limits is sufficient to show that emissions are not excessive for baghouse and scrubber-equipped kilns. The commenters recommended that the EPA delete the requirement for baghouse and scrubber-equipped kilns to start on clean fuels but add a requirement that the air pollution control devices for such kilns be in operation at the beginning of startup.

Response: The EPA agrees that the requirement to start and operate on “clean fuels” is unnecessary for kilns equipped with FFs or wet scrubbers because the control devices can be operational at the time of startup. Therefore, we are not finalizing the work practice requirement to startup on clean fuel for kilns equipped for FFs or wet scrubbers. As explained above in section C.2, we are instead requiring kilns equipped with FFs, ESPs or wet scrubbers to comply with standards as described in section C.2 above and in Table 2 during startup and shutdown.

Comment: The proposed definition of the end of startup was “Startup ends 60 minutes after the lime kiln generates lime product.” Commenters stated that the term “lime product” is not specific enough to provide certainty to regulated sources. The commenters highlighted that a kiln will start to discharge off-spec product almost simultaneously with the lighting of the primary fuel. The commenters stated that it can take up to 12 hours to produce quality grade lime following first discharge from a rotary kiln, and even longer for a vertical kiln.

The commenters recommended that the end of startup should be related to levels of stone feed, because the applicable PM emissions limits are based on tons of stone feed. The commenters recommended that the definition of the end of startup should be revised to read “Startup ends 60 minutes after stone feed reaches planned production quantities.”

Response: The EPA appreciates the commenters feedback regarding the definition of the end of startup. Commenters provided further information (Docket ID Item No. EPA-HQ-OAR-2017-0015-0015, SSM Letter from Industry (1/31/2019)) regarding what constitutes on-specification lime product and the time when on-specification lime product is produced. Commenters note that on-specification lime is produced when steady-state conditions are achieved. The EPA determined that the definition of the end of startup is the time when steady-state conditions are achieved such that PM testing could be conducted with the reference test method. We have determined that these steady-state conditions are achieved either when first producing on-specification lime product or 12 hours following first discharge from the kiln, whichever is earlier.

We are finalizing the definition of the end of startup to provide more clarity, as follows: “Startup ends when the lime kiln generates on-specification lime product or 12 hours following first discharge from the lime kiln, whichever is earlier.” We are also finalizing a new definition for on-specification lime product, as follows: “On-specification lime product means lime product that has been sufficiently calcined to meet end use requirements.”

Finally, we are finalizing a requirement for facilities to test hourly during startup to determine when lime product meets the definition of on-specification, to maintain records of the time the kiln first began producing on-specification lime product, and the time of first discharge from the lime kiln.

Comment: Commenters stated that the best way to address malfunction events would be for plants to develop site-specific protocols for malfunctions that would be embodied in a rule required plan, and that compliance with those protocols would constitute compliance with an applicable work practice standard. The commenters suggested retaining the requirement for a SSM plan that would contain these protocols, or requiring them in the plant's operations, maintenance, and monitoring (OM&M) plan.

The commenters stated that this would allow work practices for malfunctions to be tailored to the specific equipment and operating conditions present at each plant, and the presence of the protocols in a required plan would allow for the EPA review and enforcement. The commenters stated that the EPA's consideration of work practice standards for specified malfunctions (84 FR 48728) would be better than not setting separate standards at all, but that this approach would omit some malfunctions, and will not have the same degree of “fit” as tailored OM&M protocols would have.

The commenters stated that adopting work practice standards for specified malfunctions (as opposed to tailored OM&M protocols) could also cause confusion as to what malfunctions are covered by the regulation. The commenters summarized the definition of malfunction in 40 CFR 63.2. The commenters noted that not all operational malfunctions of kilns and their associated air pollution control and monitoring equipment constitute “malfunctions” under the definition in section 63.2, because some problems do not have the potential to cause emissions limitations to be exceeded.

The commenters stated that local engineering expertise may be required to determine whether particular operational malfunctions are “malfunctions” under the statute and rule and that this is a reason why tailored procedures in OM&M plans would be preferable to work practice standards for specified malfunctions.

Response: The EPA does not agree with the commenter that malfunctions should be addressed through source-specific enforceable “plans” that would contain these protocols for malfunctions. Establishing source-specific protocols for malfunctions that met MACT stringency requirements would be difficult, if not impossible, given the myriad different types of malfunctions that can occur. See, U.S. Sugar Corp. v. EPA, 830 F.3d 579, 608 (2016)(“Any possible standard is likely to be hopelessly generic to govern such a wide array of circumstances.”)

The EPA is also not finalizing specific work practice standards for specific malfunction events, although we may do so if available information supports separate MACT-compliant standards in the future. In this case, we received comment and information on potential work practice standards during periods of malfunction, however we do not have information to support that the suggested standards met the MACT stringency requirements. The EPA also agrees that finalizing specific work practice standards for malfunctions has the potential to omit certain malfunction events and cause confusion regarding what malfunctions are covered by the regulation, as it would be difficult to capture all malfunction events.

Comment: A commenter stated support for the EPA's proposed removal of the existing exemption of emissions during SSM periods. The commenter stated that the CAA requires that standards are continuous and applicable at all times and referenced various court rulings upholding this determination.

The commenter stated that the EPA may not finalize the new SSM exemptions it has proposed. The commenter stated that the EPA has not cited and can cite no statutory language granting it authority or “discretion” to set such standards, because it has none. The commenter stated that the EPA has only the discretion provided by the Act and delegated by Congress. [Clean Air Council v. Pruitt, 862 F.3d 1, 9 (DC Cir. 2017)] The commenter stated that relevant statutory language denies, rather than gives, the EPA authority to set malfunction-based standards or exemptions. See 42 U.S.C. 7412(d), (h), and 7602(k).

Response: The EPA disagrees that it has proposed new SSM exemptions or that the EPA does not have authority to establish different standards for periods of startup, shutdown or malfunction. In fact, the EPA proposed to (1) eliminate the SSM exemption, (2) require compliance with the existing standard for periods of malfunction and (3) require compliance with standards during periods of startup and shutdown. The commenter does not explain and cannot support the general claim that the statutory language denies the EPA authority to set different standards for startup or shutdown. The 2008 decision in Sierra Club v. EPA, 551 F.3d 1019 (DC Cir. 2008) (“2008 Sierra Club decision”), held that emissions standards or limitations must be continuous in nature and that “some” section 112 standards apply continuously. The DC Circuit reiterated this principle in Sierra Club v EPA, 884 F. 3d. 1185, 1203 (DC Cir. 2018) (“2018 Sierra Club decision”) explaining that the 2014 Sierra Club decision “held that, whenever HAP sources are in operation, including during startup and shutdown, the EPA must continuously subject them to either numeric limits or Section 112(h)-compliant work practice standards.” Consistent with the 2008 Sierra Club decision, and taking into account startup and shutdown periods, the EPA proposed work practice standards for these periods based on a determination under CAA section 112(h) that for kilns and coolers it was not feasible to prescribe or enforce a numeric standard during these periods of startup and shutdown. See 84 FR 48727. As discussed in the preamble to the final rule, based on public comments, we have made changes from the proposal to the standards for periods of startup and shutdown.

Comment: One commenter stated that the EPA does not have statutory authority to create work practice requirements for startups. The commenter summarized the requirements and applicable definitions of CAA sections 7412(h)(1) and (h)(2) and stated that the EPA has not satisfied either of the statute's definitions of “not feasible to prescribe or enforce and emission standard.” The commenter stated that promulgating work practice requirements instead of numeric emission limitations for periods of startup would violate the statute. The commenter stated that CAA section 112(h)(2)(B) covers situations where “the application of measurement methodology to a particular class of sources is not practicable due to technological and economic limitations.” The commenter stated that startup and shutdown are “events,” not a “particular class of source.” The commenter stated that section 112(h)(2)(B) cannot be used as justification for work practice standards in lieu of numeric emission limits.

Response: As discussed above, based on public comments, we have made changes from the proposal to the standards for periods of startup and shutdown. The EPA's final rule does not establish work practice standards for period of startup and shutdown, so the comment is no longer relevant. However, the EPA notes that it does not agree with the commenter that section 112(h)(2)(B) can be invoked to justify a work practice standard only for categories or subcategories of sources under section 112(h)(2)(B), not for periods of operation. Section 112(h) provides that the EPA may “promulgate a design, equipment, work practice, or operational standard, or combination thereof” in lieu of a numeric emission standard if the Administrator determines that it is not feasible, in his/her judgment, to prescribe or enforce a numeric standard. More specifically, section 112(h)(2) states it is infeasible to prescribe or enforce an emission standard if the application of measurement methodology to a particular class of sources is not practicable due to technological and economic limitations. Nothing in this section limits the Agency's discretion to establish work practice standards to particular sources, subcategories of sources, or source categories, or to certain periods of operations if, in the Administrator's judgment, it is not feasible to prescribe or enforce a numeric emission standard during those periods. The reference to “a particular class of sources” in section 112(h)(2) does not limit the EPA's authority to determine, for a category or subcategory of sources, that it is infeasible to prescribe or enforce an emission standard for those sources during certain identifiable time periods, such as startup and shutdown.

Comment: A commenter stated that the EPA has proposed to excuse sources from using their ESPs during startup. The commenter stated that the EPA argues that industry stakeholders have claimed it may be unsafe to run ESPs during these times. The commenter stated that CAA section 112(h)(2)(B) does not authorize the EPA to set work practice requirements based on the Agency's views about the safety implications of running a particular control device.

The commenter stated that nothing in the CAA or existing rule requires lime kilns to control their PM emissions with ESPs. The commenter stated that if lime kiln owners and operators believe it is unsafe to run ESPs during startup and shutdown, the appropriate solution is for them to deploy other control devices (e.g., FFs), not to excuse them from meeting numeric emission limits during these events.

Response: As discussed above, based on public comments, we have made changes from the proposal to the standards for periods of startup and shutdown. The EPA's final rule does not establish work practice standards for period of startup and shutdown so the comment is no longer relevant.

4. What is the rationale for our final approach for the SSM provisions?

We evaluated all comments on the EPA's proposed amendments to the SSM provisions. For the reasons explained in the proposed rule, we determined that it is appropriate to remove and revise provisions related to SSM that are not consistent with the requirement that the standards apply at all times or that are unnecessary or redundant in the absence of an SSM exemption. Therefore, we are finalizing our approach for the SSM provisions as proposed with changes as detailed in section IV.C.2 of this preamble. More information concerning the amendments we are finalizing for SSM is discussed above and in the preamble to the proposed rule (84 FR 48727-48730, September 16, 2019).

D. Electronic Reporting Requirements for the Lime Manufacturing Source Category

1. What did we proposed for the Lime Manufacturing source category?

The EPA proposed that owners or operators of lime manufacturing plants submit electronic copies of required performance test reports, performance evaluation reports, and semiannual compliance reports through the EPA's CDX using the CEDRI. More information concerning our proposal on electronic reporting requirements can be found in the proposed rule (84 FR 48708).

2. How did the electronic reporting provisions change for the Lime Manufacturing source category?

Since proposal, the electronic reporting provisions have not changed.

3. What key comments did we receive on the electronic reporting provisions, and what are our responses?

The EPA received comments related to the proposed electronic reporting provisions. The commenters generally supported the proposed provisions but disagreed with certain aspects of the provisions.

Comment: Commenters provided feedback on the electronic semiannual compliance report (spreadsheet template), per the EPA's request (84 FR 48730). The commenters noted the following:

• In tab “CMS Deviation Summary,” column D (Total Source Operating Time (hours)), and column F (Total Duration of CMS Downtime as a percentage of Total Emissions Unit Operating Time) are both protected so it is not possible for an operator to input this data. This should be corrected.

• The example source operating time is shown as 6,240 hours. For semi-annual reporting, the maximum possible hours are 4,380.

The commenters stated that the EPA should compare the final template reporting form to the final rule to ensure each reporting element is required in the rule and that the template reporting form instructions are accurate and detailed enough to ensure consistent reporting across the industry.

Response: The EPA will check the final reporting template to be sure each reporting requirement marked as a required element is required by the final rule and will also provide adequate instructions for filling out the reporting template. The EPA will also check to be sure columns D (operating time) and F are unprotected in order that manual inputs can be entered by the user. The example operating time for semi-annual reporting will be updated to 4,380 hours.

Comment: One commenter stated that the EPA may not create an unlawful exemption or extension for compliance reporting as it proposes to do for web outages or so-called “force majeure events,” as this violates the requirement for standards to be continuous and would allow unreported exceedances to go unchecked, indefinitely.

Response: The commenter asserts that the brief case-by-case extension of report submittal deadlines is an unlawful exemption from compliance with the emissions standards. This is not the case. The EPA notes that there is no exemption to reporting, much less an exemption from compliance with the emission standards, only a method for requesting an extension of the reporting deadline. Reporters are required to justify their request and identify a reporting date. While no new fixed duration deadline is set, the regulation does require that the report be submitted electronically as soon as possible after the CEDRI outage is resolved or after the force majeure event occurs. The Administrator may even request that the report be sent in hardcopy until electronic reporting can be resumed.

The Administrator has full discretion to accept or reject the claim of a CEDRI system outage or force majeure. As such, an extension is not automatic and is agreed to on an individual basis by the Administrator. If the Administrator determines that a facility has not acted in good faith to reasonably report in a timely manner, the Administrator can reject the claim and find that the failure to report timely is a deviation from the regulation.

The EPA also disagrees that the ability to request a reporting extension violates the requirement for emissions standards to be continuous. While reporting is an important mechanism for the EPA and air agencies to assess whether owners or operators are in compliance with emissions standards, reporting obligations are separate from (i.e., in addition to) requirements that an owner or operator be in compliance with an emissions standard. The EPA has discretion to establish reporting schedules, and also discretion to allow a mechanism for extension of those schedules on a case-by-case basis.

Additional comments and our specific responses can be found in the comment summary and response document titled Summary of Public Comments and Responses for Lime Manufacturing Plants Residual Risk and Technology Review, which is available in the docket for this action.

4. What is the rational for our final approach for the electronic reporting provisions?

The EPA evaluated all of the comments on the EPA's proposed amendments to the electronic reporting provisions. For the reasons explained in the proposed rule (84 FR 48708), we have determined the electronic submittal of the reports addressed in this final rulemaking will:

• Increase the usefulness of the data contained in those reports;

• be consistent with current trends in data availability and transparency;

• further assist in the protection of public health and the environment;

• improve compliance by facilitating the ability of regulated facilities to demonstrate compliance with requirements;

• facilitate the ability of delegated state, local, tribal, and territorial air agencies and the EPA to assess and determine compliance; and

• ultimately reduce burden on regulated facilities, delegated air agencies, and the EPA.

Electronic reporting also eliminates paper-based, manual processes, thereby saving time and resources, simplifying data entry, eliminating redundancies, minimizing data reporting errors, and providing data quickly and accurately to the affected facilities, air agencies, the EPA, and the public. Moreover, electronic reporting is consistent with the EPA's plan ⁷ to implement Executive Order 13563 and is in keeping with the EPA's Agency-wide policy ⁸ developed in response to the White House's Digital Government Strategy.⁹ For more information on the benefits of electronic reporting, see the memorandum titled Electronic Reporting Requirements for New Source Performance Standards (NSPS) and National Emission Standards for Hazardous Air Pollutants (NESHAP) Rules, available in Docket ID No. EPA-HQ-OAR-2017-0015.

⁷ The EPA's Final Plan for Periodic Retrospective Reviews, August 2011. Available at: https://www.regulations.gov/documentD=EPA-HQ-OA-2011-0156-0154.

⁸ E-Reporting Policy Statement for EPA Regulations, September 2013. Available at: https://www.epa.gov/sites/production/files/2016-03/documents/epa-ereporting-policy-statement-2013-09-30.pdf.

⁹ Digital Government: Building a 21st Century Platform to Better Serve the American People, May 2012. Available at: https://obamawhitehouse.archives.gov/sites/default/files/omb/egov/digital-government/digitalgovernment.html.

E. IBR

In accordance with the requirements of 1 CFR 51.5, the EPA will incorporate by reference the following documents described in the amendments to 40 CFR 63.14:

• ANSI/ASME PTC 19.10-1981, Flue and Exhaust Gas Analyses [Part 10, Instruments and Apparatus], issued August 31, 1981, IBR approved for table 5 to subpart AAAAA. This method is approved as an alternative to EPA Method 3B of appendix A to part 60.

• ASTM D6348-03 (Reapproved 2010), Standard Test Method for Determination of Gaseous Compounds by Extractive Direct Interface Fourier Transform Infrared (FTIR) Spectroscopy, including Annexes A1 through A8, Approved October 1, 2010, IBR approved for 40 CFR 63.7142(a) and 63.7142(b). This method is approved as an alternative to EPA Method 320 of appendix A to part 63.

• ASTM D6348-12e1, Standard Test Method for Determination of Gaseous Compounds by Extractive Direct Interface Fourier Transform Infrared (FTIR) Spectroscopy, Approved February 1, 2012, IBR approved for 40 CFR 63.7142(a) and 40 CFR 63.7142(b). This method is approved as an alternative to EPA Method 320 of appendix A to part 63.

• ASTM D6735-01 (Reapproved 2009), Standard Test Method for Measurement of Gaseous Chlorides and Fluorides from Mineral Calcining Exhaust Sources—Impinger Method, IBR approved for 40 CFR 63.7142(a). This method is approved as an alternative to EPA Method 321 of appendix A to part 63.

• ASTM D6420-99 (Reapproved 2010), Standard Test Method for Determination of Gaseous Organic Compounds by Direct Interface Gas Chromatography-Mass Spectrometry, Approved October 1, 2010, IBR approved for 40 CFR 63.7142(b). This method is approved as an alternative to EPA Method 18 of appendix A to part 60.

• EPA-454/R-98-015, Office of Air Quality Planning and Standards (OAQPS), Fabric Filter Bag Leak Detection Guidance, September 1997, IBR approved for 40 CFR 63.7113(d). This method was added in accordance with final revisions to the bag leak detection requirements under 40 CFR 63.7113(d).

The ANSI/ASME document is available from the American Society of Mechanical Engineers (ASME) at http://www.asme.org; by mail at Two Park Avenue, New York, NY 10016-5990; or by telephone at (800) 843-2763. The ASTM documents are available from the American Society for Testing and Materials (ASTM) at https://www.astm.org; by mail at l00 Barr Harbor Drive, P.O. Box C700, West Conshohocken, PA 19428-2959; or by telephone at (610) 832-9500. The EPA has made, and will continue to make, the EPA document generally available electronically through https://www.regulations.gov/ and at the EPA Docket Center (see the ADDRESSES section of this preamble for more information).

F. Technical and Editorial Changes for the Lime Manufacturing Source Category

1. What did we propose for the Lime Manufacturing source category?

The EPA proposed the following technical and editorial changes:

• Revising the monitoring requirements in 40 CFR 63.7113 to the provision that triboelectric bag leak detection system must be installed, calibrated, operated, and maintained according to EPA-454/R-98-015. Fabric Filter Bag Leak Detection Guidance;

• revising 40 CFR 63.7142 to add an alternative test method to EPA Method 320;

• revising 40 CFR.7142 to add the latest version of ASTM Method D6735-01;

• revising 40 CFR.7142 to add the latest version of ASTM Method D6420-99; and

• revising Table 4 to 40 CFR part 63, subpart AAAAA, to add alternative compliance option.

2. How did the technical and editorial changes change for the Lime Manufacturing source category?

Since proposal, the technical and editorial changes have not changed.

3. What key comments did we received on the technical and editorial changes, and what are our responses?

No comments were received on the technical and editorial changes detailed above.

4. What is the rationale for our final approach for the technical and editorial changes?

Because no comments were received on the technical and editorial changes that the EPA proposed, we determined that these changes should be finalized as proposed.

V. Summary of Cost, Environmental, and Economic Impacts and Additional Analyses Conducted

A. What are the affected facilities?

There are currently 35 lime manufacturing facilities operating in the United States that are subject to the Lime Manufacturing Plants NESHAP. The 40 CFR part 63, subpart AAAAA, affected source is the lime kiln and its associated cooler, and the PSH operation system located at a major source of HAP emissions. A new or reconstructed affected source is a source that commenced construction after December 20, 2002, or meets the definition of reconstruction and commenced reconstruction after December 20, 2002.

B. What are the air quality impacts?

At the current level of control, emissions of total HAP are estimated to be approximately 2,320 tpy. This represents a reduction in HAP emissions of about 240 tpy due to the current (2004) Lime Manufacturing Plants NESHAP. The final amendments will require all affected sources subject to the emission standards in the Lime Manufacturing Plants NESHAP to operate without the SSM exemption. We were unable to quantify the specific emissions reduction associated with eliminating the SSM exemption. However, eliminating the SSM exemption will reduce emissions by requiring facilities to meet emissions standards during SSM periods.

Indirect or secondary air emissions impacts are impacts that would result from the increased electricity usage associated with the operation of control devices (i.e., increased secondary emissions of criteria pollutants from power plants). Energy impacts consist of the electricity and steam needed to operate control devices and other equipment that would be required under this proposed rule. The EPA expects no secondary air emissions impacts or energy impacts from this rulemaking.

C. What are the cost impacts?

The 35 lime manufacturing plants that would be subject to the final amendments would incur minimal net costs to meet revised recordkeeping and reporting requirements and the standards for periods of startup and shutdown. Nationwide costs associated with the final requirements are estimated to be $15,271. The EPA believes that the lime manufacturing plants which are subject to the NESHAP can meet the final requirements with minimal additional capital or operational costs. Each facility will experience costs to read and understand the rule amendments. Costs associated with the elimination of the SSM exemption were estimated as part of the reporting and recordkeeping costs and include time for re-evaluating previously developed SSM record systems. Costs associated with the requirement to electronically submit notifications and semi-annual compliance reports using CEDRI were estimated as part of the reporting and recordkeeping costs and include time for becoming familiar with CEDRI and the reporting template for semi-annual compliance reports.

D. What are the economic impacts?

Economic impact analyses focus on changes in market prices and output levels. If changes in market prices and output levels in the primary markets are significant enough, impacts on other markets may also be examined. Both the magnitude of costs needed to comply with a final rule and the distribution of these costs among affected facilities can have a role in determining how the market will change in response to a final rule. The total costs associated with reviewing the final rule, meeting the revised recordkeeping and reporting requirements, and complying with the revised final standards are estimated to be $15,271. This is an estimated cost of $266 to $2,925 per facility, depending on the number of lime kilns operated and the type of controls installed. These costs are not expected to result in a significant market impact, regardless of whether they are passed on to the purchaser or absorbed by the firms. Based on the costs associated with the elimination of the SSM exemption and the costs associated with the requirement to electronically submit compliance reports, we do not anticipate any significant economic impacts from these final amendments.

E. What are the benefits?

Although the EPA is unable to quantify reductions in HAP emissions as a result of the final amendments, we believe that the action improves the rule. Specifically, the final amendments remove SSM exemptions such that standards apply at all times. Additionally, the final amendments requiring electronic submittal of initial notifications, initial startup reports, annual compliance certifications, deviation reports, and performance test results will increase the usefulness of the data, is in keeping with current trends of data availability, will further assist in the protection of public health and the environment, and will ultimately result in less burden on the regulated community.

F. What analysis of environmental justice did we conduct?

The EPA believes that this action does not have disproportionately high and adverse human health or environmental effects on minority populations, low-income populations and/or indigenous peoples, as specified in Executive Order 12898 (59 FR 7629, February 16, 1994).

The documentation for this decision is contained in the Risk and Technology Review Analysis of Demographic Factors for Populations Living Near Lime Manufacturing Source Category Operations, which is available in the docket for this action. The results of the Lime Manufacturing source category demographic analysis indicated that emissions from the source category expose approximately 12 people to a cancer risk at or above 1-in-1 million and no people to a chronic noncancer TOSHI greater than 1. The percentages of the at-risk population indicate that three of the 10 demographic groups (White, African American and people below the poverty level) that are living within 50 km of facilities in the source category exceed the corresponding national percentage for the same demographic groups.

G. What analysis of children's environmental health did we conduct?

The EPA does not believe the environmental health or safety risks addressed by this action present a disproportionate risk to children. This action's health and risk assessments are contained in the Residual Risk Assessment for the Lime Manufacturing Source Category in Support of the 2019 Risk and Technology Review Proposed Rule, which is available in the docket for this action.

VI. Statutory and Executive Order Reviews

Additional information about these statutes and Executive Orders can be found at https://www2.epa.gov/laws-regulations/laws-and-executive-orders.

A. Executive Orders 12866: Regulatory Planning and Review and Executive Order 13563: Improving Regulation and Regulatory Review

This action is not a significant regulatory action and was, therefore, not submitted to the Office of Management and Budget (OMB) for review.

B. Executive Order 13771: Reducing Regulations and Controlling Regulatory Costs

This action is not an Executive Order 13771 regulatory action because this action is not significant under Executive Order 12866.

C. Paperwork Reduction Act (PRA)

The information collection activities in this final rule have been submitted for approval to OMB under the PRA. The Information Collection Request (ICR) document that the EPA prepared has been assigned EPA ICR number 2072.09. You can find a copy of the ICR in the docket for this rule, and it is briefly summarized here. The information collection requirements are not enforceable until OMB approves them.

We are finalizing changes to the reporting and recordkeeping requirements for the Lime Manufacturing Plants NESHAP in the form of eliminating the SSM reporting and SSM plan requirements and requiring electronic submittal of all compliance reports (including performance test reports). Any information submitted to the Agency for which a claim of confidentiality is made will be safeguarded according to the Agency policies set forth in title 40, chapter 1, part 2, subpart B—Confidentiality of Business Information (see 40 CFR part 2; 41 FR 36902, September 1, 1976; amended by 43 FR 40000, September 8, 1978; 43 FR 42251, September 20, 1978; 44 FR 17674, March 23, 1979).

Respondents/affected entities: Owners or operators of lime manufacturing plants that are major sources, or that are located at, or are part of, major sources of HAP emissions, unless the lime manufacturing plant is located at a kraft pulp mill, soda pulp mill, sulfite pulp mill, sugar beet manufacturing plant, or only processes sludge containing calcium carbonate from water softening processes.

Respondent's obligation to respond: Mandatory (40 CFR part 63, subpart AAAAA).

Estimated number of respondents: On average over the next 3 years, approximately 36 existing major sources will be subject to these standards. It is also estimated that one additional respondent will become subject to the emission standards over the 3-year period.

Frequency of response: The frequency of responses varies depending on the burden item.

Total estimated burden: The average annual burden to industry over the next 3 years from these recordkeeping and reporting requirements is estimated to be 9,690 hours (per year). Burden is defined at 5 CFR 1320.3(b).

Total estimated cost: The annual recordkeeping and reporting cost for all facilities to comply with all of the requirements in the NESHAP is estimated to be $1,810,000 (per year), of which $15,271 (first year) is for this rule, and the rest is for other costs related to continued compliance with the NESHAP including $684,000 in annualized capital and operation and maintenance costs.

An agency may not conduct or sponsor, and a person is not required to respond to, a collection of information unless it displays a currently valid OMB control number. The OMB control numbers for the EPA's regulations in 40 CFR are listed in 40 CFR part 9. When OMB approves this ICR, the Agency will announce that approval in the Federal Register and publish a technical amendment to 40 CFR part 9 to display the OMB control number for the approved information collection activities contained in this final rule.

D. Regulatory Flexibility Act (RFA)

I certify that this action will not have a significant economic impact on a substantial number of small entities under the RFA. In making this determination, the impact of concern is any significant adverse economic impact on small entities. This action only eliminates the SSM exemption, revises other SSM related requirements, and adds electronic reporting. None of the changes will impact the small entities. The rule removes the SSM exemption and establishes emission standard for startup and shutdown. Based on the controls used at the small entities, they will not be impacted by the alternate emission standards. Thus, this action will not impose any requirements on small entities.

E. Unfunded Mandates Reform Act (UMRA)

This action does not contain any unfunded mandate as described in UMRA, 2 U.S.C. 1531-1538, and does not significantly or uniquely affect small governments. While this action creates an enforceable duty on the private sector, the cost does not exceed $100 million or more.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. The EPA does not know of any lime manufacturing facilities owned or operated by Indian tribal governments. Thus, Executive Order 13175 does not apply to this action.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are contained in sections III and IV of the proposal preamble (84 FR 48708, September 16, 2019) and further documented in the risk report titled Residual Risk Assessment for the Lime Manufacturing Source Category in Support of the 2019 Risk and Technology Review Proposed Rule, which is available in the docket for this action.

I. Executive Order 13211: Actions Concerning Regulations That Significantly Affect Energy Supply, Distribution, or Use

This action is not subject to Executive Order 13211, because it is not a significant regulatory action under Executive Order 12866.

J. National Technology Transfer and Advancement Act (NTTAA) and 1 CFR Part 51

This action involves technical standards. The EPA has decided to use ANSI/ASME PTC 19.10-1981 Part 10 (2010), “Flue and Exhaust Gas Analyses,” as an acceptable alternative to EPA Method 3B manual portion only and not the instrumental portion. This method determines quantitatively the gaseous constituents of exhausts resulting from stationary combustion sources. This standard may be obtained from https://www.asme.org or from the American Society of Mechanical Engineers (ASME) at Three Park Avenue, New York, New York 10016-5990.

The EPA has decided to use ASTM D6348-03(2010) and ASTM D6348-12e1, “Determination of Gaseous Compounds by Executive Direct Interface Fourier Transform (FTIR) Spectroscopy,” as alternatives to using EPA Method 320 under certain conditions and incorporate these alternatives by reference. ASTM D6348-03(2010) was previously determined equivalent to EPA Method 320 with caveats. ASTM D6348-12e1 is a revised version of ASTM D6348-03(2010) and includes a new section on accepting the results from direct measurement of a certified spike gas cylinder, but still lacks the caveats we placed on the ASTM D6348-03(2010) version. The voluntary consensus standard (VCS), ASTM D6348-12e1, “Determination of Gaseous Compounds by Extractive Direct Interface Fourier Transform (FTIR) Spectroscopy,” is an acceptable alternative to EPA Method 320 at this time with caveats requiring inclusion of selected annexes to the standard as mandatory. When using ASTM D6348-12e1, the conditions that must be met are defined in 40 CFR 63.7142(a)(2). This field test method employs an extractive sampling system to direct stationary source effluent to an FTIR spectrometer for the identification and quantification of gaseous compounds. The ASTM D6348-03(2010) and ASTM D6348-12el standards were developed and adopted by the American Society for Testing and Materials (ATSM).

The EPA has also decided to use ASTM D6735-01 (Reapproved 2009), “Standard Test Method for Measurement of Gaseous Chlorides and Fluorides from Mineral Calcining Exhaust Sources Impinger Method,” as an alternative to EPA Method 321 provided that the provisions in 40 CFR 63.7142(a)(4) are followed. The EPA used ASTM D6735-01 for the determination of HCl in EPA Methods 26, 26A, and 321 from mineral calcining exhaust sources. This method will measure the gaseous HCl and other gaseous chlorides and fluorides that pass through a PM filter. The ASTM D6735-01 standard was developed and adopted by the ASTM.

The EPA has decided to use VCS ASTM D6420-99 (Reapproved 2010), “Test Method for Determination of Gaseous Organic Compounds by Direct Interface Gas Chromatography/Mass Spectrometry” as an alternative to EPA Method 18 only when the target compounds are all known, and the target compounds are all listed in ASTM D6420 as measurable. ASTM D6420 should not be used for methane and ethane because atomic mass is less than 35. ASTM D6420 should never be specified as a total volatile organic compound method. This field method determines the mass concentration of volatile organic HAP.

The ASTM standards may be obtained from http://www.astm.org or from the ASTM at 100 Barr Harbor Drive, Post Office C700, West Conshohocken, Pennsylvania 19428-2959.

The EPA has decided to use EPA-454/R-98-015, Office of Air Quality Planning and Standards (OAQPS), Fabric Filter Bag Leak Detection Guidance, September 1997 as guidance for how a triboelectric bag leak detection system must be installed, calibrated, operated, and maintained. This document includes FF and monitoring system descriptions; guidance on monitor selection, installation, set up, adjustment, and operation; and quality assurance procedures. This document may be obtained from http://www.epa.gov or from the EPA, 1200 Pennsylvania Avenue NW, Washington, DC 20460.

While the EPA has identified another 10 VCS as being potentially applicable to this proposed rule, we have decided not to use these VCS in this rulemaking. The use of these VCS would not be practical due to lack of equivalency, documentation, validation date, and other import technical and policy considerations. See the memorandum titled Voluntary Consensus Standard Results for NESHAP: Lime Manufacturing Residual Risk and Technology Review, in the docket for this proposed rule for the reasons for these determinations.

Under 40 CFR 63.7(f) and 40 CFR 63.8(f) of subpart A of the General Provisions, a source may apply to the EPA for permission to use alternative test methods or alternative monitoring requirements in place of any required testing methods, performance specifications, or procedures in the final rule or any amendments.

K. Executive Order 12898: Federal Actions To Address Environmental Justice in Minority Populations and Low-Income Populations

The EPA believes that this action does not have disproportionately high and adverse human health or environmental effects on minority populations, low-income populations, and/or indigenous peoples, as specified in Executive Order 12898 (59 FR 7629, February 16, 1994).

The documentation for this decision is contained in section IV.B of the proposal preamble and the technical report, Risk and Technology Review Analysis of Demographic Factors for Populations Living Near Lime Manufacturing Source Category Operations, which is available in the docket for this action.

L. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Incorporation by reference, Lime manufacturing, Intergovernmental relations, Reporting and recordkeeping requirements.

Andrew Wheeler,
Administrator.

For the reasons set forth in the preamble, the EPA amends 40 CFR part 63 as follows:

PART 63—NATIONAL EMISSION STANDARDS FOR HAZARDOUS AIR POLLUTANTS FOR SOURCE CATEGORIES

1. The authority citation for part 63 continues to read as follows:

Authority: 42 U.S.C. 7401 et seq.

Subpart A—General Provisions

2. Section 63.14 is amended by revising paragraphs (e)(1), (h)(85), (86), (93), (100), and (n)(3) to read as follows:

§ 63.14 Incorporations by reference.

* * * * *

(e) * * *

(1) ANSI/ASME PTC 19.10-1981, Flue and Exhaust Gas Analyses [Part 10, Instruments and Apparatus], issued August 31, 1981, IBR approved for §§ 63.309(k), 63.457(k), 63.772(e) and (h), 63.865(b), 63.997(e), 63.1282(d) and (g), 63.1625(b), table 5 to subpart EEEE, 63.3166(a), 63.3360(e), 63.3545(a), 63.3555(a), 63.4166(a), 63.4362(a), 63.4766(a), 63.4965(a), 63.5160(d), table 4 to subpart UUUU, table 3 to subpart YYYY, 63.7822(b), 63.7824(e), 63.7825(b), 63.9307(c), 63.9323(a), 63.11148(e), 63.11155(e), 63.11162(f), 63.11163(g), 63.11410(j), 63.11551(a), 63.11646(a), and 63.11945, table 5 to subpart AAAAA, table 5 to subpart DDDDD, table 4 to subpart JJJJJ, table 4 to subpart KKKKK, tables 4 and 5 of subpart UUUUU, table 1 to subpart ZZZZZ, and table 4 to subpart JJJJJJ.

* * * * *

(h) * * *

(85) ASTM D6348-03 (Reapproved 2010), Standard Test Method for Determination of Gaseous Compounds by Extractive Direct Interface Fourier Transform Infrared (FTIR) Spectroscopy, including Annexes A1 through A8, Approved October 1, 2010, IBR approved for §§ 63.1571(a), 63.4751(i), 63.4752(e), 63.4766(b), 63.7142(a) and (b), tables 4 and 5 to subpart JJJJJ, tables 4 and 6 to subpart KKKKK, tables 1, 2, and 5 to subpart UUUUU and appendix B to subpart UUUUU.

(86) ASTM D6348-12e1, Standard Test Method for Determination of Gaseous Compounds by Extractive Direct Interface Fourier Transform Infrared (FTIR) Spectroscopy, Approved February 1, 2012, IBR approved for §§ 63.997(e), 63.1571(a), 63.2354(b), table 5 to subpart EEEE, table 4 to subpart UUUU, and 63.7142(a) and (b).

* * * * *

(93) ASTM D6420-99 (Reapproved 2010), Standard Test Method for Determination of Gaseous Organic Compounds by Direct Interface Gas Chromatography-Mass Spectrometry, Approved October 1, 2010, IBR approved for §§ 63.670(j), Table 4 to subpart UUUU, 63.7142(b), and appendix A to this part: Method 325B.

* * * * *

(100) ASTM D6735-01 (Reapproved 2009), Standard Test Method for Measurement of Gaseous Chlorides and Fluorides from Mineral Calcining Exhaust Sources—Impinger Method, IBR approved for § 63.7142(b), tables 4 and 5 to subpart JJJJJ, and tables 4 and 6 to subpart KKKKK.

* * * * *

(n) * * *

(3) EPA-454/R-98-015, Office of Air Quality Planning and Standards (OAQPS), Fabric Filter Bag Leak Detection Guidance, September 1997, IBR approved for §§ 63.548(e), 63.864(e), 63.7113(d), 63.7525(j), 63.7831(f), 63.8450(e), 63.8600(e), and 63.11224(f).

* * * * *

Subpart AAAAA—[Amended]

3. Section 63.7083 is amended by revising paragraphs (a)(1), (2), and (b) and by adding paragraph (e) to read as follows:

§ 63.7083 When do I have to comply with this subpart?

(a) * * *

(1) If you start up your affected source before January 5, 2004, you must comply with the emission limitations no later than January 5, 2004, and you must have completed all applicable performance tests no later than July 5, 2004, except as noted in paragraphs (e)(1) and (2) of this section.

(2) If you start up your affected source after January 5, 2004, then you must comply with the emission limitations for new affected sources upon startup of your affected source and you must have completed all applicable performance tests no later than 180 days after startup, except as noted in paragraphs (e)(1) and (2) of this section.

(b) If you have an existing affected source, you must comply with the applicable emission limitations for the existing affected source, and you must have completed all applicable performance tests no later than January 5, 2007, except as noted in paragraphs (e)(1) and (2) of this section.

* * * * *

(e)(1) If your affected source commenced construction or reconstruction on or before September, 16, 2019, then the compliance date for the revised requirements promulgated at §§ 63.7090, 63.7100, 63.7112, 63.7113, 63.7121, 63.7130, 63.7131, 63.7132, 63.7140, 63.7141, 63.7142, and 63.7143 and Tables 2, 3, 4, 5, 7, 8 and 9 (except changes to the cross references to 63.6(f)(1) and (h)(1)) of 40 CFR 63, subpart AAAAA, published on July 24, 2020 is January 20, 2021.

(2) If your affected source commenced construction or reconstruction after September 16, 2019, then the compliance date for the revised requirements promulgated at §§ 63.7090, 63.7100, 63.7112, 63.7113, 63.7121, 63.7130, 63.7131, 63.7132, 63.7140, 63.7141, 63.7142, and 63.7143 and Tables 2, 3, 4, 5, 7, 8 and 9 to this subpart, published on July 24, 2020 is July 24, 2020 or the date of initial startup, whichever is later.

4. Section 63.7090 is amended by revising paragraph (b) and adding paragraph (c) to read as follows:

§ 63.7090 What emission limitations must I meet?

* * * * *

(b) You must meet each operating limit in Table 3 to this subpart that applies to you.

(c) On or after the relevant compliance date for your source as specified in §§ 63.7083(e), you must meet each startup and shutdown period emission limit in Table 2 to this subpart that applies to you.

5. Section 63.7100 is amended by revising paragraphs (a), (b), (c), (d)(3), (d)(4)(iii), (d)(6) introductory text, and (e) to read as follows:

§ 63.7100 What are my general requirements for complying with this subpart?

(a) Prior to the relevant compliance date for your source as specified in § 63.7083(e), you must be in compliance with the emission limitations (including operating limits) in this subpart at all times, except during periods of startup, shutdown, and malfunction. On and after the relevant compliance date for your source as specified in § 63.7083(e), you must be in compliance with the applicable emission limitations (including operating limits) at all times.

(b) Prior to the relevant compliance date for your source as specified in § 63.7083(e), you must be in compliance with the opacity and visible emission (VE) limits in this subpart at all times, except during periods of startup, shutdown, and malfunction. On and after the relevant compliance date for your source as specified in § 63.7083(e), you must be in compliance with the applicable opacity and VE limits at all times.

(c) Prior to the relevant compliance date for your source as specified in § 63.7083(e), you must always operate and maintain your affected source, including air pollution control and monitoring equipment, according to the provisions in § 63.6(e)(1)(i). On and after the relevant compliance date for your source as specified in § 63.7083(e), you must always operate and maintain any affected source, including associated air pollution control equipment and monitoring equipment, in a manner consistent with safety and good air pollution control practices for minimizing emissions. The general duty to minimize emissions does not require the owner or operator to make any further efforts to reduce emissions if levels required by the applicable standard have been achieved. Determination of whether such operation and maintenance procedures are being used will be based on information available to the Administrator which may include, but is not limited to, monitoring results, review of operation and maintenance procedures, review of operation and maintenance records, and inspection of the source.

(d) * * *

(3) Procedures for the proper operation and maintenance of each emission unit and each air pollution control device used to meet the applicable emission limitations and operating limits in Tables 1, 2 and 3 to this subpart, respectively. On and after the relevant compliance date for your source as specified in § 63.7083(e), your OM&M plan must address periods of startup and shutdown.

(4) * * *

(iii) Prior to the relevant compliance date for your source as specified in § 63.7083(e), ongoing operation and maintenance procedures in accordance with the general requirements of §§ 63.8(c)(1)(i) and (ii), (3), and (4)(ii). On and after the relevant compliance date for your source as specified in § 63.7083(e), ongoing operation and maintenance procedures in accordance with the general requirements of paragraph (c) of this section and §§ 63.8(c)(1)(ii), (3), and (4)(ii); and

* * * * *

(6) Corrective actions to be taken when process or operating parameters or add-on control device parameters deviate from the operating limits specified in Table 3 to this subpart, including:

* * * * *

(e) Prior to the relevant compliance date for your source as specified in § 63.7083(e), you must develop a written startup, shutdown, and malfunction plan (SSMP) according to the provisions in § 63.6(e)(3).

6. Section 63.7110 is amended by revising paragraphs (d) and (e) to read as follows:

§ 63.7110 By what date must I conduct performance tests and other initial compliance demonstrations?

* * * * *

(d) For each initial compliance requirement in Table 4 to this subpart that applies to you where the monitoring averaging period is 3 hours, the 3-hour period for demonstrating continuous compliance for emission units within existing affected sources at LMP begins at 12:01 a.m. on the compliance date for existing affected sources, that is, the day following completion of the initial compliance demonstration, and ends at 3:01 a.m. on the same day.

(e) For each initial compliance requirement in Table 4 to this subpart that applies to you where the monitoring averaging period is 3 hours, the 3-hour period for demonstrating continuous compliance for emission units within new or reconstructed affected sources at LMP begins at 12:01 a.m. on the day following completion of the initial compliance demonstration, as required in paragraphs (b) and (c) of this section, and ends at 3:01 a.m. on the same day.

7. Section 63.7112 is amended by revising paragraphs (a), (b), (c), (j) introductory text, (k) introductory text, (k)(3), and (l) introductory text, and adding paragraph (m) to read as follows:

§ 63.7112 What performance tests, design evaluations, and other procedures must I use?

(a) You must conduct each performance test in Table 5 to this subpart that applies to you.

(b) Prior to the relevant compliance date for your source as specified in § 63.7083(e), each performance test must be conducted according to the requirements in § 63.7(e)(1) and under the specific conditions specified in Table 5 to this subpart. On and after the relevant compliance date for your source as specified in § 63.7083(e), each performance test must be conducted based on representative performance (i.e., performance based on normal operating conditions) of the affected source and under the specific conditions in Table 5 to this subpart. Representative conditions exclude periods of startup and shutdown. The owner or operator may not conduct performance tests during periods of malfunction. The owner or operator must record the process information that is necessary to document operating conditions during the test and include in such record an explanation to support that such conditions represent normal operation. Upon request, the owner or operator shall make available to the Administrator such records as may be necessary to determine the conditions of performance tests.

(c) Prior to the relevant compliance date for your source as specified in § 63.7083(e), you may not conduct performance tests during periods of startup, shutdown, or malfunction, as specified in § 63.7(e)(1). On and after the relevant compliance date for your source as specified in § 63.7083(e), you may not conduct performance tests during periods of startup, shutdown, or malfunction, as specified in paragraph (b) of this section.

* * * * *

(j) You must establish any applicable 3-hour block average operating limit indicated in Table 3 to this subpart according to the applicable requirements in Table 4 to this subpart and paragraphs (j)(1) through (4) of this section.

* * * * *

(k) For each building enclosing any PSH operations that is subject to a VE limit, you must conduct a VE check according to item 18 in Table 5 to this subpart, and in accordance with paragraphs (k)(1) through (3) of this section.

* * * * *

(3) The observer conducting the VE checks need not be certified to conduct EPA Method 9 in appendix A-4 to part 60 of this chapter. However, the observer must meet the training requirements as described in EPA Method 22 in appendix A-7 to part 60 of this chapter.

(l) When determining compliance with the opacity standards for fugitive emissions from PSH operations in item 8 of Table 1 to this subpart, you must conduct EPA Method 9 in appendix A-4 to part 60 of this chapter according to item 17 in Table 5 to this subpart, and in accordance with paragraphs (l)(1) through (3) of this section.

* * * * *

(m) On and after the relevant compliance date for your source as specified in § 63.7083(e), during startup, kilns must be tested hourly to determine when lime product meets the definition of on-specification lime product.

8. Section 63.7113 is amended by revising paragraphs (d) and (f) to read as follows:

§ 63.7113 What are my monitoring installation, operation, and maintenance requirements?

* * * * *

(d) For each bag leak detection system (BLDS), you must meet any applicable requirements in paragraphs (a)(1) through (5) and (d)(1) through (10) of this section.

(1) The BLDS must be certified by the manufacturer to be capable of detecting PM emissions at concentrations of 10 milligrams per actual cubic meter (0.0044 grains per actual cubic foot) or less.

(2) The sensor on the BLDS must provide output of relative PM emissions.

(3) The BLDS must be equipped with a device to continuously record the output signal from the sensor.

(4) The BLDS must have an alarm that will sound automatically when it detects an increase in relative PM emissions greater than a preset level.

(5) The alarm must be located in an area where appropriate plant personnel will be able to hear it.

(6) For a positive-pressure fabric filter (FF), each compartment or cell must have a bag leak detector (BLD). For a negative-pressure or induced-air FF, the BLD must be installed downstream of the FF. If multiple BLD are required (for either type of FF), the detectors may share the system instrumentation and alarm.

(7) Each triboelectric BLDS must be installed, calibrated, operated, and maintained according to EPA-454/R-98-015, “Fabric Filter Bag Leak Detection Guidance,” (incorporated by reference—see § 63.14). Other types of bag leak detection systems must be installed, operated, calibrated, and maintained according to the manufacturer's written specifications and recommendations. Standard operating procedures must be incorporated into the OM&M plan.

(8) At a minimum, initial adjustment of the system must consist of establishing the baseline output in both of the following ways, according to section 5.0 of the EPA-454/R-98-015, “Fabric Filter Bag Leak Detection Guidance,” (incorporated by reference—see § 63.14):

(i) Adjust the range and the averaging period of the device.

(ii) Establish the alarm set points and the alarm delay time.

(9) After initial adjustment, the sensitivity or range, averaging period, alarm set points, or alarm delay time may not be adjusted except as specified in the OM&M plan required by § 63.7100(d). In no event may the range be increased by more than 100 percent or decreased by more than 50 percent over a 365-day period unless such adjustment follows a complete FF inspection that demonstrates that the FF is in good operating condition, as defined in section 5.2 of the “Fabric Filter Bag Leak Detection Guidance,” (incorporated by reference—see § 63.14). Record each adjustment.

(10) Record the results of each inspection, calibration, and validation check.

* * * * *

(f) For each emission unit equipped with an add-on air pollution control device, you must inspect each capture/collection and closed vent system at least once each calendar year to ensure that each system is operating in accordance with the operating requirements in item 6 of Table 3 to this subpart and record the results of each inspection.

* * * * *

9. Section 63.7114 is amended by revising paragraphs (a) introductory text and (b) to read as follows:

§ 63.7114 How do I demonstrate initial compliance with the emission limitations standard?

(a) You must demonstrate initial compliance with each emission limit in Table 1 to this subpart that applies to you, according to Table 4 to this subpart. For existing lime kilns and their associated coolers, you may perform VE measurements in accordance with EPA Method 9 of appendix A to part 60 in lieu of installing a COMS or PM detector if any of the conditions in paragraphs (a)(1) through (3) of this section exist:

* * * * *

(b) You must establish each site-specific operating limit in Table 3 to this subpart that applies to you according to the requirements in § 63.7112(j) and Table 5 to this subpart. Alternative parameters may be monitored if approval is obtained according to the procedures in § 63.8(f).

* * * * *

10. Section 63.7120 is amended by revising paragraph (c) introductory text to read as follows and removing paragraph (c)(3).

§ 63.7120 How do I monitor and collect data to demonstrate continuous compliance?

* * * * *

(c) Data recorded during the conditions described in paragraphs (c)(1) and (2) of this section may not be used either in data averages or calculations of emission or operating limits; or in fulfilling a minimum data availability requirement. You must use all the data collected during all other periods in assessing the operation of the control device and associated control system.

* * * * *

11. Section 63.7121 is amended by revising paragraphs (a), (b), (d), (e) introductory text, and (e)(3) to read as follows:

§ 63.7121 How do I demonstrate continuous compliance with the emission limitations standard?

(a) You must demonstrate continuous compliance with each emission limitation in Tables 1 and 3 to this subpart that applies to you according to the methods specified in Tables 6 and 7 to this subpart.

(b) You must report each instance in which you did not meet each operating limit, opacity limit, and VE limit in Tables 2, 3 and 7 to this subpart that applies to you. These deviations must be reported according to the requirements in § 63.7131.

* * * * *

(d) Prior to the relevant compliance date for your source as specified in § 63.7083(e), consistent with §§ 63.6(e) and 63.7(e)(1), deviations that occur during a period of startup, shutdown, or malfunction are not violations if you demonstrate to the Administrator's satisfaction that you were operating in accordance with § 63.6(e)(1). The Administrator will determine whether deviations that occur during a period of startup, shutdown, or malfunction are violations, according to the provisions in § 63.6(e).

(e) For each PSH operation subject to an opacity limit as specified in Table 1 to this subpart, and any vents from buildings subject to an opacity limit, you must conduct a VE check according to item 1 in Table 7 to this subpart, and as follows:

* * * * *

(3) The observer conducting the VE checks need not be certified to conduct EPA Method 9 in appendix A-4 to part 60 of this chapter but must meet the training requirements as described in EPA Method 22 of appendix A-7 to part 60 of this chapter.

* * * * *

12. Section 63.7130 is amended by revising paragraph (e) to read as follows:

§ 63.7130 What notifications must I submit and when?

* * * * *

(e) If you are required to conduct a performance test, design evaluation, opacity observation, VE observation, or other initial compliance demonstration as specified in Table 4 or 5 to this subpart, you must submit a Notification of Compliance Status according to § 63.9(h)(2)(ii). Beginning on the relevant compliance date for your source as specified in § 63.7083(e), submit all subsequent Notification of Compliance Status following the procedure specified in § 63.7131(h).

(1) For each initial compliance demonstration required in Table 4 to this subpart that does not include a performance test, you must submit the Notification of Compliance Status before the close of business on the 30th calendar day following the completion of the initial compliance demonstration.

(2) For each compliance demonstration required in Table 6 to this subpart that includes a performance test conducted according to the requirements in Table 5 to this subpart, you must submit the Notification of Compliance Status, including the performance test results, before the close of business on the 60th calendar day following the completion of the performance test according to § 63.10(d)(2).

13. Section 63.7131 is amended by:

a. Revising paragraphs (a) and paragraph (b) introductory text;

b. Adding paragraph (b)(6);

c. Revising paragraphs (c)(4), paragraphs (d), (e) introductory text, and (e)(2);

d. Adding paragraph (e)(12);

e. Revising paragraph (f); and

f. Adding paragraphs (g) through (j).

The revisions and additions read as follows:

§ 63.7131 What reports must I submit and when?

(a) You must submit each report listed in Table 8 to this subpart that applies to you.

(b) Unless the Administrator has approved a different schedule for submission of reports under § 63.10(a), you must submit each report by the date specified in Table 8 to this subpart and according to the requirements in paragraphs (b)(1) through (6) of this section:

* * * * *

(6) Beginning on the relevant compliance date for your source as specified in § 63.7083(e), submit all subsequent compliance reports following the procedure specified in paragraph (h) of this section.

(c) * * *

(4) Prior to the relevant compliance date for your source as specified in § 63.7083(e), if you had a startup, shutdown or malfunction during the reporting period and you took actions consistent with your SSMP, the compliance report must include the information in § 63.10(d)(5)(i).

* * * * *

(d) For each deviation from an emission limitation (emission limit, operating limit, opacity limit, and VE limit) that occurs at an affected source where you are not using a CMS to comply with the emission limitations in this subpart, the compliance report must contain the information specified in paragraphs (c)(1) through (4) and (d)(1) and (2) of this section. The deviations must be reported in accordance with the requirements in § 63.10(d) prior to the relevant compliance date for your source as specified in § 63.7083(e) and the requirements in § 63.10(d)(1)-(4) beginning on the relevant compliance date for your source as specified in § 63.7083(e).

(1) The total operating time of each emission unit during the reporting period.

(2) Information on the number, duration, and cause of deviations (including unknown cause, if applicable), and the corrective action taken.

(3) An estimate of the quantity of each regulated pollutant emitted over a particulate matter emission limit, and a description of the method used to estimate the emissions.

(e) For each deviation from an emission limitation (emission limit, operating limit, opacity limit, and VE limit) occurring at an affected source where you are using a CMS to comply with the emission limitation in this subpart, you must include the information specified in paragraphs (c)(1) through (4) and (e)(1) through (11) of this section, except that beginning on the relevant compliance date for your source as specified in 63.7083(e), the semiannual compliance report must also include the information included in paragraph (e)(12) of this section. This includes periods of startup, shutdown, and malfunction.

* * * * *

(2) The date, time, and duration that each CMS was inoperative, except for zero (low-level) and high-level checks.

* * * * *

(12) An estimate of the quantity of each regulated pollutant emitted over a particulate matter emission limit, and a description of the method used to estimate the emissions.

(f) Each facility that has obtained a title V operating permit pursuant to part 70 or part 71 of this chapter must report all deviations as defined in this subpart in the semiannual monitoring report required by § 70.6(a)(3)(iii)(A) or 71.6(a)(3)(iii)(A) of this chapter. If you submit a compliance report specified in Table 8 to this subpart along with, or as part of, the semiannual monitoring report required by § 70.6(a)(3)(iii)(A) or 71.6(a)(3)(iii)(A) of this chapter, and the compliance report includes all required information concerning deviations from any emission limitation (including any operating limit), submission of the compliance report shall be deemed to satisfy any obligation to report the same deviations in the semiannual monitoring report. However, submission of a compliance report shall not otherwise affect any obligation you may have to report deviations from permit requirements to the permit authority.

(g) If you are required to submit reports following the procedure specified in this paragraph, you must submit reports to the EPA via the Compliance and Emissions Data Reporting Interface (CEDRI), which can be accessed through the EPA's Central Data Exchange (CDX) (https://cdx.epa.gov/). You must use the appropriate electronic report template on the CEDRI website (https://www.epa.gov/electronic-reporting-air-emissions/compliance-and-emissions-data-reporting-interface-cedri) for this subpart. The date report templates become available will be listed on the CEDRI website. The report must be submitted by the deadline specified in this subpart, regardless of the method in which the report is submitted. If you claim some of the information required to be submitted via CEDRI is confidential business information (CBI), submit a complete report, including information claimed to be CBI, to the EPA. The report must be generated using the appropriate form on the CEDRI website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described earlier in this paragraph.

(h) Within 60 days after the date of completing each performance test required by this subpart, you must submit the results of the performance test following the procedures specified in paragraphs (h)(1) through (3) of this section.

(1) Data collected using test methods supported by the EPA's Electronic Reporting Tool (ERT) as listed on the EPA's ERT website (https://www.epa.gov/electronic-reporting-air-emissions/electronic-reporting-tool-ert) at the time of the test. Submit the results of the performance test to the EPA via CEDRI, which can be accessed through the EPA's CDX (https://cdx.epa.gov/). The data must be submitted in a file format generated through the use of the EPA's ERT. Alternatively, you may submit an electronic file consistent with the extensible markup language (XML) schema listed on the EPA's ERT website.

(2) Data collected using test methods that are not supported by the EPA's ERT as listed on the EPA's ERT website at the time of the test. The results of the performance test must be included as an attachment in the ERT or an alternate electronic file consistent with the XML schema listed on the EPA's ERT website. Submit the ERT generated package or alternative file to the EPA via CEDRI.

(3) Confidential business information (CBI). If you claim some of the information submitted under paragraph (i) of this section is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in paragraph (i) of this section.

(i) If you are required to electronically submit a report or notification through CEDRI in the EPA's CDX, you may assert a claim of EPA system outage for failure to timely comply with the reporting requirement. To assert a claim of EPA system outage, you must meet the requirements outlined in paragraphs (i)(1) through (7) of this section.

(1) You must have been or will be precluded from accessing CEDRI and submitting a required report within the time prescribed due to an outage of either the EPA's CEDRI or CDX systems.

(2) The outage must have occurred within the period of time beginning five business days prior to the date that the submission is due.

(3) The outage may be planned or unplanned.

(4) You must submit notification to the Administrator in writing as soon as possible following the date you first knew, or through due diligence should have known, that the event may cause or has caused a delay in reporting.

(5) You must provide to the Administrator a written description identifying:

(i) The date(s) and time(s) when CDX or CEDRI was accessed and the system was unavailable;

(ii) A rationale for attributing the delay in reporting beyond the regulatory deadline to EPA system outage;

(iii) Measures taken or to be taken to minimize the delay in reporting; and

(iv) The date by which you propose to report, or if you have already met the reporting requirement at the time of the notification, the date you reported.

(6) The decision to accept the claim of EPA system outage and allow an extension to the reporting deadline is solely within the discretion of the Administrator.

(7) In any circumstance, the report must be submitted electronically as soon as possible after the outage is resolved.

(j) If you are required to electronically submit a report through CEDRI in the EPA's CDX, you may assert a claim of force majeure for failure to timely comply with the reporting requirement. To assert a claim of force majeure, you must meet the requirements outlined in paragraphs (j)(1) through (5) of this section.

(1) You may submit a claim if a force majeure event is about to occur, occurs, or has occurred or there are lingering effects from such an event within the period of time beginning five business days prior to the date the submission is due. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) Measures taken or to be taken to minimize the delay in reporting; and

(iv) The date by which you propose to report, or if you have already met the reporting requirement at the time of the notification, the date you reported.

(4) The decision to accept the claim of force majeure and allow an extension to the reporting deadline is solely within the discretion of the Administrator.

(5) In any circumstance, the reporting must occur as soon as possible after the force majeure event occurs.

14. Section 63.7132 is amended by revising paragraphs (a)(2) and (c) to read as follows:

§ 63.7132 What records must I keep?

(a) * * *

(2) Prior to the relevant compliance date for your source as specified in § 63.7083(e), the records in § 63.6(e)(3)(iii) through (v) related to startup, shutdown, and malfunction. On and after the relevant compliance date for your source as specified in § 63.7083(e), the records in paragraphs (a)(2)(i) and (ii) of this section.

(i) You must keep records for each startup period of the date, the time startup began, the time began producing on-specification lime product, and the time discharge from the kiln began for any affected source that is subject to a standard during startup that differs from the standard applicable at other times.

(ii) You must keep records of the date, time, cause and duration of each malfunction (as defined in 40 CFR 63.2) that causes an affected source to fail to meet an applicable standard; if there was also a monitoring malfunction, the date, time, cause, and duration of the monitoring malfunction; the record must list the affected source or equipment; if there was a failure to meet a particulate matter emissions limit, an estimate of the volume of each regulated pollutant emitted over the limit, and a description of the method used to estimate the emissions.

* * * * *

(c) You must keep the records required by Tables 6 and 7 to this subpart to show continuous compliance with each emission limitation that applies to you.

* * * * *

15. Section 63.7133 is amended by adding paragraph (d) to read as follows:

§ 63.7133 In what form and for how long must I keep my records?

* * * * *

(d) Any records required to be maintained by this part that are submitted electronically via the EPA's CEDRI may be maintained in electronic format. This ability to maintain electronic copies does not affect the requirement for facilities to make records, data, and reports available upon request to a delegated air agency or the EPA as part of an on-site compliance evaluation.

16. Section 63.7140 is amended to read as follows:

§ 63.7140 What parts of the General Provisions apply to me?

Table 9 to this subpart shows which parts of the General Provisions in §§ 63.1 through 63.16 apply to you. When there is overlap between subpart A and subpart AAAAA, as indicated in the “Explanations” column in Table 8, subpart AAAAA takes precedence.

17. Section 63.7141 is amended by revising paragraph (c) to read as follows:

§ 63.7141 Who implements and enforces this subpart?

* * * * *

(c) The authorities that will not be delegated to State, local, or tribal agencies are as specified in paragraphs (c)(1) through (7) of this section.

(1) Approval of alternatives to the non-opacity emission limitations in § 63.7090(a).

(2) Approval of alternative opacity emission limitations in § 63.7090(a) and (c).

(3) Approval of alternatives to the operating limits in § 63.7090(b).

(4) Approval of major alternatives to test methods under § 63.7(e)(2)(ii) and (f) and as defined in § 63.90.

(5) Approval of major alternatives to monitoring under § 63.8(f) and as defined in § 63.90.

(6) Approval of major alternatives to recordkeeping and reporting under § 63.10(f) and as defined in § 63.90.

(7) Approval of an alternative to any electronic reporting to the EPA required by this subpart.

18. Section 63.7142 is amended by:

a. Revising paragraph (a)(1);

b. Redesignating paragraphs (a)(2) and (a)(3) as paragraphs (a)(3) and (a)(4);

c. Adding new paragraph (a)(2);

d. Revising newly designated paragraph (a)(4) introductory text, and paragraphs (a)(4)(i), and (a)(4)(v);

e. Redesignating paragraphs (b)(2) and (b)(3) as paragraphs (b)(3) and (b)(4);

f. Adding new paragraph (b)(2); and

g. Revising newly designated paragraphs (b)(3) and (b)(4).

The revisions and additions read as follows:

§ 63.7142 What are the requirements for claiming area source status?

(a) * * *

(1) EPA Method 320 of appendix A to this part, or

(2) As an alternative to Method 320 of Appendix A, ASTM D6348-03 (Reapproved 2010) including Annexes A1 through A8 (incorporated by reference—see § 63.14). ASTM D6348-12e1 (incorporated by reference—see § 63.14) is an acceptable alternative to EPA Method 320 of appendix A, provided that the provisions of paragraphs (a)(2)(i) and (ii) of this section are followed:

(i) The test plan preparation and implementation in the Annexes to ASTM D6348-03 (Reapproved 2010), Sections A1 through A8 are mandatory.

(ii) In ASTM D6348-03 (Reapproved 2010) Annex A5 (Analyte Spiking Technique), the percent recovery (%R) must be determined for each target analyte (Equation A5.5). In order for the test data to be acceptable for a compound, %R must be greater than or equal to 70 percent and less than or equal to 130 percent. If the %R value does not meet this criterion for a target compound, the test data are not acceptable for that compound and the test must be repeated for that analyte (i.e., the sampling and/or analytical procedure should be adjusted before a retest). The %R value for each compound must be reported in the test report, and all field measurements must be corrected with the calculated %R value for that compound by using the following equation: Reported Results = ((Measured Concentration in the Stack))/(%R) × 100; or

* * * * *

(4) As an alternative to EPA Method 321, ASTM Method D6735-01 (Reapproved 2009), (incorporated by reference—see § 63.14), provided that the provisions in paragraphs (a)(3)(i) through (vi) of this section are followed.

(i) A test must include three or more runs in which a pair of samples is obtained simultaneously for each run according to section 11.2.6 of ASTM Method D6735-01 (Reapproved 2009).

* * * * *

(v) The post-test analyte spike procedure of section 11.2.7 of ASTM Method D6735-01 (Reapproved 2009) is conducted, and the percent recovery is calculated according to section 12.6 of ASTM Method D6735-01 (Reapproved 2009).

* * * * *

(b) * * *

(2) As an alternative to Method 320 of Appendix A, ASTM D6348-03 (Reapproved 2010) including Annexes A1 through A8 (incorporated by reference—see § 63.14). ASTM D6348-12e1 (incorporated by reference—see § 63.14) is an acceptable alternative to EPA Method 320 of appendix A, provided that the provisions of paragraphs (b)(2)(i) and (ii) of this section are followed:

(i) The test plan preparation and implementation in the Annexes to ASTM D6348-03 (Reapproved 2010), Sections A1 through A8 are mandatory.

(ii) In ASTM D6348-03 (Reapproved 2010) Annex A5 (Analyte Spiking Technique), the percent recovery (%R) must be determined for each target analyte (Equation A5.5). In order for the test data to be acceptable for a compound, %R must be greater than or equal to 70 percent and less than or equal to 130 percent. If the %R value does not meet this criterion for a target compound, the test data are not acceptable for that compound and the test must be repeated for that analyte (i.e., the sampling and/or analytical procedure should be adjusted before a retest). The %R value for each compound must be reported in the test report, and all field measurements must be corrected with the calculated %R value for that compound by using the following equation: Reported Results = ((Measured Concentration in the Stack))/(%R) × 100; or

(3) Method 18 of appendix A-6 to part 60 of this chapter; or

(4) As an alternative to Method 18, ASTM D6420-99 (Reapproved 2010), (incorporated by reference—see § 63.14), provided that the provisions of paragraphs (b)(3)(i) through (iv) of this section are followed:

(i) The target compound(s) are those listed in section 1.1 of ASTM D6420-99 (Reapproved 2010) as measurable;

(ii) This ASTM should not be used for methane and ethane because their atomic mass is less than 35 and

(iii) ASTM D6420-99 (Reapproved 2010) should never be specified as a total VOC method.

* * * * *

19. Section 63.7143 is amended by:

a. Revising paragraph (3) under the definition of “Deviation.”

b. Adding in alphabetical order definitions for “On-specification lime product,” “Shutdown” and “Startup.”

The revisions read as follows:

§ 63.7143 What definitions apply to this subpart?

* * * * *

Deviation * * *

(3) Prior to the relevant compliance date for your source as specified in § 63.7083(e), fails to meet any emission limitation (including any operating limit) in this subpart during startup, shutdown, or malfunction, regardless of whether or not such failure is allowed by this subpart.

* * * * *

On-specification Lime Product means lime product that has been sufficiently calcined to meet end use requirements.

* * * * *

Shutdown means the cessation of kiln operation. Shutdown begins when feed to the kiln is reduced below planned production quantities and ends when stone feed is halted and fuel combustion from the main burner ceases.

* * * * *

Startup means the beginning of kiln operation. Startup begins when a shutdown kiln begins firing fuel in the main burner. Startup ends when the lime kiln first generates on-specification lime product or 12 hours following first discharge from the kiln, whichever is earlier.

* * * * *

20. Table 1 to subpart AAAAA is amended by revising the introductory text to read as follows:

Table 1 to Subpart AAAAA of Part 63—Emission Limits

As required in § 63.7090(a), you must meet each emission limit in the following table that applies to you, except for kilns and coolers during startup and shutdown (See Table 2 for emission limits for kilns and coolers during startup and shutdown).

* * * * *

21. Redesignate tables 2 through 8 to subpart AAAAA as tables 3 through 9 to subpart AAAA.

22. Add new Table 2 to subpart AAAAA to read as follows:

As required in § 63.7090(b), on and after the relevant compliance date for your source as specified in § 63.7083(e), you must meet each emission limit in the following table that applies to you.

Table 2 to Subpart AAAAA of Part 63—Startup and Shutdown Emission Limits for Kilns and Coolers
For . . . | You must meet the following emission limit | You have demonstrated compliance, if after following the requirements in § 63.7112 . . .
1. All new and existing lime kilns and their associated coolers equipped with an FF or an ESP during each startup | Emissions must not exceed 15 percent opacity (based on startup period block average) | i. Installed, maintained, calibrated and operated a COMS as required by 40 CFR part 63, subpart A, General Provisions and according to PS-1 of appendix B to part 60 of this chapter, except as specified in § 63.7113(g)(2);
|  | ii. Collected the COMS data at a frequency of at least once every 15 seconds, determining block averages for each startup period and demonstrating for each startup block period the average opacity does not exceed 15 percent.
2. All existing lime kilns and their associated coolers that have a wet scrubber during each startup | See item 2.b of Table 3 of subpart AAAAA for emission limit | See item 1 of Table 6 of subpart AAAAA for requirements for demonstrating compliance.
3. All new and existing lime kilns and their associated coolers equipped with an FF or an ESP during shutdown | Emissions must not exceed 15 percent opacity (based on 6-minute average opacity for any 6-minute block period does not exceed 15 percent) | i. Installed, maintained, calibrated and operated a COMS as required by 40 CFR part 63, subpart A, General Provisions and according to PS-1 of appendix B to part 60 of this chapter, except as specified in § 63.7113(g)(2);
|  | ii. Collecting the COMS data at a frequency of at least once every 15 seconds, determining block averages for each 6-minute period and demonstrating for each 6-minute block period the average opacity does not exceed 15 percent.
4. All existing lime kilns and their associated coolers that have a wet scrubber during shutdown | See item 2.b of Table 3 of subpart AAAAA for emission limit | See item 1 of Table 6 of subpart AAAAA for requirements for demonstrating compliance.

23. Revise newly redesignated Table 3 to subpart AAAAA to read as follows:

As required in § 63.7090(b), you must meet each operating limit in the following table that applies to you, except for kilns and coolers during startup and shutdown (See Table 2 for operating limits during startup and shutdown).

Table 3 to Subpart AAAAA of Part 63—Operating Limits
For . . . | You must . . .
1. Each lime kiln and each lime cooler (if there is a separate exhaust to the atmosphere from the associated lime cooler) equipped with an FF | Maintain and operate the FF such that the BLDS or PM detector alarm condition does not exist for more than 5 percent of the total operating time in a 6-month period; and comply with the requirements in § 63.7113(d) through (f) and Table 6 to this subpart. In lieu of a BLDS or PM detector maintain the FF such that the 6-minute average opacity for any 6-minute block period does not exceed 15 percent; and comply with the requirements in § 63.7113(f) and (g) and Table 6 to this subpart.
2. Each lime kiln equipped with a wet scrubber | a. Maintain the 3-hour block exhaust gas stream pressure drop across the wet scrubber greater than or equal to the pressure drop operating limit established during the most recent PM performance test; and
| b. Maintain the 3-hour block scrubbing liquid flow rate greater than the flow rate operating limit established during the most recent performance test.
3. Each lime kiln equipped with an electrostatic precipitator | Install a PM detector and maintain and operate the ESP such that the PM detector alarm is not activated and alarm condition does not exist for more than 5 percent of the total operating time in a 6-month period, and comply with § 63.7113(e); or, maintain the ESP such that the 6-minute average opacity for any 6-minute block period does not exceed 15 percent, and comply with the requirements in § 63.7113(g); and comply with the requirements in § 63.7113(f) and Table 6 to this subpart.
4. Each PSH operation subject to a PM limit which uses a wet scrubber | Maintain the 3-hour block average exhaust gas stream pressure drop across the wet scrubber greater than or equal to the pressure drop operating limit established during the PM performance test; and maintain the 3-hour block average scrubbing liquid flow rate greater than or equal to the flow rate operating limit established during the performance test.
5. All affected sources | Prepare a written OM&M plan; the plan must include the items listed in § 63.7100(d) and the corrective actions to be taken when required in Table 6 to this subpart.
6. Each emission unit equipped with an add-on air pollution control device | a. Vent captured emissions through a closed system, except that dilution air may be added to emission streams for the purpose of controlling temperature at the inlet to an FF; and b. Operate each capture/collection system according to the procedures and requirements in the OM&M plan.

24. Revise newly redesignated Table 4 to subpart AAAAA to read as follows:

As required in § 63.7114, you must demonstrate initial compliance with each emission limitation that applies to you, according to the following table.

Table 4 to Subpart AAAAA of Part 63—Initial Compliance With Emission Limits
For . . . | For the following emission limit . . . | You have demonstrated initial compliance, if after following the requirements in § 63.7112 . . .
1. All new or existing lime kilns and their associated lime coolers (kilns/coolers) | PM emissions must not exceed 0.12 lb/tsf for all existing kilns/coolers with dry controls, 0.60 lb/tsf for existing kilns/coolers with wet scrubbers, 0.10 lb/tsf for all new kilns/coolers, or a weighted average calculated according to Eq. 3 in § 63.7112 | The kiln outlet PM emissions (and if applicable, summed with the separate cooler PM emissions), based on the PM emissions measured using Method 5 in appendix A to part 60 of this chapter and the stone feed rate measurement over the period of initial performance test, do not exceed the emission limit; if the lime kiln is controlled by an FF or ESP and you are opting to monitor PM emissions with a BLDS or PM detector, you have installed and are operating the monitoring device according to the requirements in § 63.7113(d) or (e), respectively; and if the lime kiln is controlled by an FF or ESP and you are opting to monitor PM emissions using a COMS, you have installed and are operating the COMS according to the requirements in § 63.7113(g).
2. Stack emissions from all PHS operations at a new or existing affected source | PM emissions must not exceed 0.05 g/dscm | The outlet PM emissions, based on Method 5 or Method 17 in appendix A to part 60 of this chapter, over the period of the initial performance test do not exceed 0.05 g/dscm; and if the emission unit is controlled with a wet scrubber, you have a record of the scrubber's pressure drop and liquid flow rate operating parameters over the 3-hour performance test during which emissions did not exceed the emissions limitation.
3. Stack emissions from all PSH operations at a new or existing affected source, unless the stack emissions are discharged through a wet scrubber control device | Emissions must not exceed 7 percent opacity | Each of the thirty 6-minute opacity averages during the initial compliance period, using Method 9 in appendix A to part 60 of this chapter, does not exceed the 7 percent opacity limit. At least thirty 6-minute averages must be obtained.
4. Fugitive emissions from all PSH operations at a new or existing affected source | Emissions must not exceed 10 percent opacity | Each of the 6-minute opacity averages during the initial compliance period, using Method 9 in appendix A to part 60 of this chapter, does not exceed the 10 percent opacity limit.
5. All PSH operations at a new or existing affected source, enclosed in building | All of the individually affected PSH operations must comply with the applicable PM and opacity emission limitations for items 2 through 4 of this Table 4, or the building must comply with the following: There must be no VE from the building, except from a vent, and vent emissions must not exceed the emission limitations in items 2 and 3 of this Table 4 | All the PSH operations enclosed in the building have demonstrated initial compliance according to the applicable requirements for items 2 through 4 of this Table 4; or if you are complying with the building emission limitations, there are no VE from the building according to item 18 of Table 5 to this subpart and § 63.7112(k), and you demonstrate initial compliance with applicable building vent emissions limitations according to the requirements in items 2 and 3 of this Table 4.
6. Each FF that controls emissions from only an individual storage bin | Emissions must not exceed 7 percent opacity | Each of the ten 6-minute averages during the 1-hour initial compliance period, using Method 9 in appendix A to part 60 of this chapter, does not exceed the 7 percent opacity limit.
7. Each set of multiple storage bins with combined stack emissions | You must comply with emission limitations in items 2 and 3 of this Table 4 | You demonstrate initial compliance according to the requirements in items 2 and 3 of this Table 4.

25. Revise newly redesignated Table 5 to subpart AAAAA to read as follows:

As required in § 63.7112, you must conduct each performance test in the following table that applies to you.

Table 5 to Subpart AAAAA of Part 63—Requirements for Performance Tests
For . . . | You must . . . | Using . . . | According to the following requirements . . .
1. Each lime kiln and each associated lime cooler, if there is a separate exhaust to the atmosphere from the associated lime cooler | Select the location of the sampling port and the number of traverse ports | Method 1 or 1A of appendix A to part 60 of this chapter; and § 63.6(d)(1)(i) | Sampling sites must be located at the outlet of the control device(s) and prior to any releases to the atmosphere.
2. Each lime kiln and each associated lime cooler, if there is a separate exhaust to the atmosphere from the associated lime cooler | Determine velocity and volumetric flow rate | Method 2, 2A, 2C, 2D, 2F, or 2G in appendix A to part 60 of this chapter | Not applicable.
3. Each lime kiln and each associated lime cooler, if there is a separate exhaust to the atmosphere from the associated lime cooler | Conduct gas molecular weight analysis | Method 3, 3A, or 3B in appendix A to part 60 of this chapter | You may use ASME PTC 19.10-1981—Part 10 (available for purchase from Three Park Avenue, New York, NY 10016-5990) as an alternative to using the manual procedures (but not instrumental procedures) in Method 3B.
4. Each lime kiln and each associated lime cooler, if there is a separate exhaust to the atmosphere from the associated lime cooler | Measure moisture content of the stack gas | Method 4 in appendix A to part 60 of this chapter | Not applicable.
5. Each lime kiln and each associated lime cooler, if there is a separate exhaust to the atmosphere from the associated lime cooler, and which uses a negative pressure PM control device | Measure PM emissions | Method 5 in appendix A to part 60 of this chapter | Conduct the test(s) when the source is operating at representative operating conditions in accordance with § 63.7(e) before the relevant compliance date for your source as specified in § 63.7083(e) and § 63.7112(b) on and after the relevant compliance date for your source as specified in § 63.7083(e); the minimum sampling volume must be 0.85 dry standard cubic meter (dscm) (30 dry standard cubic foot (dscf)); if there is a separate lime cooler exhaust to the atmosphere, you must conduct the Method 5 test of the cooler exhaust concurrently with the kiln exhaust test.
6. Each lime kiln and each associated lime cooler, if there is a separate exhaust to the atmosphere from the associated lime cooler, and which uses a positive pressure FF or ESP | Measure PM emissions | Method 5D in appendix A to part 60 of this chapter | Conduct the test(s) when the source is operating at representative operating conditions in accordance with § 63.7(e) before the relevant compliance date for your source as specified in § 63.7083(e) and § 63.7112(b) on and after the relevant compliance date for your source as specified in § 63.7083(e); if there is a separate lime cooler exhaust to the atmosphere, you must conduct the Method 5 test of the separate cooler exhaust concurrently with the kiln exhaust test.
7. Each lime kiln | Determine the mass rate of stone feed to the kiln during the kiln PM emissions test | Any suitable device | Calibrate and maintain the device according to manufacturer's instructions; the measuring device used must be accurate to within ±5 percent of the mass rate of stone feed over its operating range.
8. Each lime kiln equipped with a wet scrubber | Establish the operating limit for the average gas stream pressure drop across the wet scrubber | Data for the gas stream pressure drop measurement device during the kiln PM performance test | The continuous pressure drop measurement device must be accurate within plus or minus 1 percent; you must collect the pressure drop data during the period of the performance test and determine the operating limit according to § 63.7112(j).
9. Each lime kiln equipped with a wet scrubber | Establish the operating limit for the average liquid flow rate to the scrubber | Data from the liquid flow rate measurement device during the kiln PM performance test | The continuous scrubbing liquid flow rate measuring device must be accurate within plus or minus 1 percent; you must collect the flow rate data during the period of the performance test and determine the operating limit according to § 63.7112(j).
10. Each lime kiln equipped with a FF or ESP that is monitored with a PM detector | Have installed and have operating the BLDS or PM detector prior to the performance test | Standard operating procedures incorporated into the OM&M plan | According to the requirements in § 63.7113(d) or (e), respectively.
11. Each lime kiln equipped with a FF or ESP that is monitored with a COMS | Have installed and have operating the COMS prior to the performance test | Standard operating procedures incorporated into the OM&M plan and as required by 40 CFR part 63, subpart A, General Provisions and according to PS-1 of appendix B to part 60 of this chapter, except as specified in § 63.7113(g)(2) | According to the requirements in § 63.7113(g).
12. Each stack emission from a PSH operation, vent from a building enclosing a PSH operation, or set of multiple storage bins with combined stack emissions, which is subject to a PM emission limit | Measure PM emissions | Method 5 or Method 17 in appendix A to part 60 of this chapter | The sample volume must be at least 1.70 dscm (60 dscf); for Method 5, if the gas stream being sampled is at ambient temperature, the sampling probe and filter may be operated without heaters; and if the gas stream is above ambient temperature, the sampling probe and filter may be operated at a temperature high enough, but no higher than 121 °C (250 °F), to prevent water condensation on the filter (Method 17 may be used only with exhaust gas temperatures of not more than 250 °F).
13. Each stack emission from a PSH operation, vent from a building enclosing a PSH operation, or set of multiple storage bins with combined stack emissions, which is subject to an opacity limit | Conduct opacity observations | Method 9 in appendix A to part 60 of this chapter | The test duration must be for at least 3 hours and you must obtain at least thirty, 6-minute averages.
14. Each stack emissions source from a PSH operation subject to a PM or opacity limit, which uses a wet scrubber | Establish the average gas stream pressure drop across the wet scrubber | Data for the gas stream pressure drop measurement device during the PSH operation stack PM performance test | The pressure drop measurement device must be accurate within plus or minus 1 percent; you must collect the pressure drop data during the period of the performance test and determine the operating limit according to § 63.7112(j).
15. Each stack emissions source from a PSH operation subject to a PM or opacity limit, which uses a wet scrubber | Establish the operating limit for the average liquid flow rate to the scrubber | Data from the liquid flow rate measurement device during the PSH operation stack PM performance test | The continuous scrubbing liquid flow rate measuring device must be accurate within plus or minus 1 percent; you must collect the flow rate data during the period of the performance test and determine the operating limit according to § 63.7112(j).
16. Each FF that controls emissions from only an individual, enclosed, new or existing storage bin | Conduct opacity observations | Method 9 in appendix A to part 60 of this chapter | The test duration must be for at least 1 hour and you must obtain ten 6-minute averages.
17. Fugitive emissions from any PSH operation subject to an opacity limit | Conduct opacity observations | Method 9 in appendix A to part 60 of this chapter | The test duration must be for at least 3 hours, but the 3-hour test may be reduced to 1 hour if, during the first 1-hour period, there are no individual readings greater than 10 percent opacity and there are no more than three readings of 10 percent during the first 1-hour period.
18. Each building enclosing any PSH operation, that is subject to a VE limit | Conduct VE check | The specifications in § 63.7112(k) | The performance test must be conducted while all affected PSH operations within the building are operating; the performance test for each affected building must be at least 75 minutes, with each side of the building and roof being observed for at least 15 minutes.

26. Amend newly redesignated Table 6 to subpart AAAAA by revising the introductory text to read as follows:

As required in § 63.7121, you must demonstrate continuous compliance with each operating limit listed in Table 3 to subpart AAAAA that applies to you, according to the following table:

Table 6 to Subpart AAAAA of Part 63—Continuous Compliance With Operating Limits

* * * * *

27. Revise newly redesignated Table 7 to subpart AAAAA to read as follows:

As required in § 63.7121 you must periodically demonstrate compliance with each opacity and VE limit that applies to you, according to the following table:

Table 7 to Subpart AAAAA of Part 63—Periodic Monitoring for Compliance With Opacity and Visible Emissions Limits
For . . . | For the following emission limitation . . . | You must demonstrate ongoing compliance . . .
1. Each PSH operation subject to an opacity limitation as required in Table 1 to this subpart, or any vents from buildings subject to an opacity limitation | a. 7-10 percent opacity, depending on the PSH operation, as required in Table 1 to this subpart | (i) Conducting a monthly 1-minute VE check of each emission unit in accordance with § 63.7121(e); the check must be conducted while the affected source is in operation; (ii) If no VE are observed in 6 consecutive monthly checks for any emission unit, you may decrease the frequency of VE checking from monthly to semi-annually for that emission unit; if VE are observed during any semiannual check, you must resume VE checking of that emission unit on a monthly basis and maintain that schedule until no VE are observed in 6 consecutive monthly checks;
|  | (iii) If no VE are observed during the semiannual check for any emission unit, you may decrease the frequency of VE checking from semi-annually to annually for that emission unit; if VE are observed during any annual check, you must resume VE checking of that emission unit on a monthly basis and maintain that schedule until no VE are observed in 6 consecutive monthly checks; and
|  | (iv) If VE are observed during any VE check, you must conduct a 6-minute test of opacity in accordance with Method 9 of appendix A to part 60 of this chapter; you must begin the Method 9 test within 1 hour of any observation of VE and the 6-minute opacity reading must not exceed the applicable opacity limit.
2. Any building subject to a VE limit, according to item 8 of Table 1 to this subpart | a. No VE | (i) Conducting a monthly VE check of the building, in accordance with the specifications in § 63.7112(k); the check must be conducted while all the enclosed PSH operations are operating;
|  | (ii) The check for each affected building must be at least 5 minutes, with each side of the building and roof being observed for at least 1 minute;
|  | (iii) If no VE are observed in 6 consecutive monthly checks of the building, you may decrease the frequency of checking from monthly to semi-annually for that affected source; if VE are observed during any semi-annual check, you must resume checking on a monthly basis and maintain that schedule until no VE are observed in 6 consecutive monthly checks; and
|  | (iv) If no VE are observed during the semi-annual check, you may decrease the frequency of checking from semi-annually to annually for that affected source; and if VE are observed during any annual check, you must resume checking of that emission unit on a monthly basis and maintain that schedule until no VE are observed in 6 consecutive monthly checks (the source is in compliance if no VE are observed during any of these checks).

28. Revise newly redesignated Table 8 to subpart AAAAA to read as follows:

As required in § 63.7131, you must submit each report in this table that applies to you.

Table 8 to Subpart AAAAA of Part 63—Requirements for Reports
You must submit a . . . | The report must contain . . . | You must submit the report . . .
1. Compliance report | a. If there are no deviations from any emission limitations (emission limit, operating limit, opacity limit, and VE limit) that applies to you, a statement that there were no deviations from the emission limitations during the reporting period; | Semiannually according to the requirements in § 63.7131(b).
| b. If there were no periods during which the CMS, including any operating parameter monitoring system, was out-of-control as specified in § 63.8(c)(7), a statement that there were no periods during which the CMS was out-of-control during the reporting period; | Semiannually according to the requirements in § 63.7131(b).
| c. If you have a deviation from any emission limitation (emission limit, operating limit, opacity limit, and VE limit) during the reporting period, the report must contain the information in § 63.7131(d); | Semiannually according to the requirements in § 63.7131(b).
| d. If there were periods during which the CMS, including any operating parameter monitoring system, was out-of-control, as specified in § 63.8(c)(7), the report must contain the information in § 63.7131(e); and | Semiannually according to the requirements in § 63.7131(b).
| e. Before the relevant compliance date for your source as specified in § 63.7083(e), if you had a startup, shutdown or malfunction during the reporting period and you took actions consistent with your SSMP, the compliance report must include the information in § 63.10(d)(5)(i). On and after the relevant compliance date for your source as specified in § 63.7083(e), if you had a startup, shutdown or malfunction during the reporting period and you failed to meet an applicable standard, the compliance report must include the information in § 63.7131(c)(3) | Semiannually according to the requirements in § 63.7131(b).
2. Before the relevant compliance date for your source as specified in § 63.7083(e), an immediate startup, shutdown, and malfunction report if you had a startup, shutdown, or malfunction during the reporting period that is not consistent with your SSMP | Actions taken for the event | By fax or telephone within 2 working days after starting actions inconsistent with the SSMP.
3. Before the relevant compliance date for your source as specified in § 63.7083(e), an immediate startup, shutdown, and malfunction report if you had a startup, shutdown, or malfunction during the reporting period that is not consistent with your SSMP | The information in § 63.10(d)(5)(ii) | By letter within 7 working days after the end of the event unless you have made alternative arrangements with the permitting authority. See § 63.10(d)(5)(ii).
(4) Performance Test Report | The information required in § 63.7(g) | According to the requirements of § 63.7131.

29. Revise newly redesignated Table 9 to subpart AAAAA to read as follows:

As required in § 63.7140, you must comply with the applicable General Provisions requirements according to the following table:

Table 9 to Subpart AAAAA of Part 63—Applicability of General Provisions to Subpart AAAAA
Citation | Summary of requirement | Am I subject to this requirement? | Explanations
§ 63.1(a)(1)-(4) | Applicability | Yes
§ 63.1(a)(5) |  | No
§ 63.1(a)(6) | Applicability | Yes
§ 63.1(a)(7)-(a)(9) |  | No
§ 63.1(a)(10)-(a)(14) | Applicability | Yes
§ 63.1(b)(1) | Initial Applicability Determination | Yes | §§ 63.7081 and 63.7142 specify additional applicability determination requirements.
§ 63.1(b)(2) |  | No
§ 63.1(b)(3) | Initial Applicability Determination | Yes
§ 63.1(c)(1) | Applicability After Standard Established | Yes
§ 63.1(c)(2) | Permit Requirements | No | Area sources not subject to subpart AAAAA, except all sources must make initial applicability determination.
§ 63.1(c)(3)-(4) |  | No
§ 63.1(c)(5) | Area Source Becomes Major | Yes
§ 63.1(d) |  | No
§ 63.1(e) | Applicability of Permit Program | Yes
§ 63.2 | Definitions | Yes | Additional definitions in § 63.7143.
§ 63.3(a)-(c) | Units and Abbreviations | Yes
§ 63.4(a)(1)-(a)(2) | Prohibited Activities | Yes
§ 63.4(a)(3)-(a)(5) |  | No
§ 63.4(b)-(c) | Circumvention, Severability | Yes
§ 63.5(a)(1)-(2) | Construction/Reconstruction | Yes
§ 63.5(b)(1) | Compliance Dates | Yes
§ 63.5(b)(2) |  | No
§ 63.5(b)(3)-(4) | Construction Approval, Applicability | Yes
§ 63.5(b)(5) |  | No
§ 63.5(b)(6) | Applicability | Yes
§ 63.5(c) |  | No
§ 63.5(d)(1)-(4) | Approval of Construction/Reconstruction | Yes
§ 63.5(e) | Approval of Construction/Reconstruction | Yes
§ 63.5(f)(1)-(2) | Approval of Construction/Reconstruction | Yes
§ 63.6(a) | Compliance for Standards and Maintenance | Yes
§ 63.6(b)(1)-(5) | Compliance Dates | Yes
§ 63.6(b)(6) |  | No
§ 63.6(b)(7) | Compliance Dates | Yes
§ 63.6(c)(1)-(2) | Compliance Dates | Yes
§ 63.6(c)(3)-(c)(4) |  | No
§ 63.6(c)(5) | Compliance Dates | Yes
§ 63.6(d) |  | No
§ 63.6(e)(1)(i) | General Duty to Minimize Emissions | Yes before the relevant compliance date for your source as specified in § 63.7083(e) No on and after the relevant compliance date for your source as specified in § 63.7083(e) | On and after the relevant compliance date for your source as specified in § 63.7083(e), see § 63.7100 for general duty requirement.
§ 63.6(e)(1)(ii) | Requirement to Correct Malfunctions ASAP | Yes before the relevant compliance date for your source as specified in § 63.7083(e) No on and after the relevant compliance date for your source as specified in § 63.7083(e)
§ 63.6(e)(1)(iii) | Operation and Maintenance Requirements | Yes
§ 63.6(e)(2) |  | No | [Reserved].
§ 63.6(e)(3) | Startup, Shutdown Malfunction Plan | Yes before the relevant compliance date for your source as specified in § 63.7083(e) No on and after the relevant compliance date for your source as specified in § 63.7083(e) | On and after the relevant compliance date for your source as specified in § 63.7083(e), the OM&M plan must address periods of startup and shutdown. See § 63.7100(d).
§ 63.6(f)(1) | SSM exemption | No | See § 63.7100. For periods of startup and shutdown, see § 63.7090(c).
§ 63.6(f)(2)-(3) | Methods for Determining Compliance | Yes
§ 63.6(g)(1)-(g)(3) | Alternative Standard | Yes
§ 63.6(h)(1) | SSM exemption | No | See § 63.7100. For periods of startup and shutdown, see § 63.7090(c).
§ 63.6(h)(2) | Methods for Determining Compliance | Yes
§ 63.6(h)(3) |  | No
§ 63.6(h)(4)-(h)(5)(i) | Opacity/VE Standards | Yes | This requirement only applies to opacity and VE performance checks required in Table 4 to subpart AAAAA.
§ 63.6(h)(5) (ii)-(iii) | Opacity/VE Standards | No | Test durations are specified in subpart AAAAA; subpart AAAAA takes precedence.
§ 63.6(h)(5)(iv) | Opacity/VE Standards | No
§ 63.6(h)(5)(v) | Opacity/VE Standards | Yes
§ 63.6(h)(6) | Opacity/VE Standards | Yes
§ 63.6(h)(7) | COM Use | Yes
§ 63.6(h)(8) | Compliance with Opacity and VE | Yes
§ 63.6(h)(9) | Adjustment of Opacity Limit | Yes
§ 63.6(i)(1)-(i)(14) | Extension of Compliance | Yes
§ 63.6(i)(15) |  | No
§ 63.6(i)(16) | Extension of Compliance | Yes
§ 63.6(j) | Exemption from Compliance | Yes
§ 63.7(a)(1)-(a)(3) | Performance Testing Requirements | Yes | § 63.7110 specifies deadlines; § 63.7112 has additional specific requirements.
§ 63.7(b) | Notification | Yes
§ 63.7(c) | Quality Assurance/Test Plan | Yes
§ 63.7(d) | Testing Facilities | Yes
§ 63.7(e)(1) | Conduct of Tests | Yes before the relevant compliance date for your source as specified in § 63.7083(e) No on and after the relevant compliance date for your source as specified in § 63.7083(e) | On and after the relevant compliance date for your source as specified in § 63.7083(e), see § 63.7112(b).
§ 63.7(e)(2)-(4) | Conduct of Tests | Yes
§ 63.7(f) | Alternative Test Method | Yes
§ 63.7(g) | Data Analysis | Yes
§ 63.7(h) | Waiver of Tests | Yes
§ 63.8(a)(1) | Monitoring Requirements | Yes | See § 63.7113.
§ 63.8(a)(2) | Monitoring | Yes
§ 63.8(a)(3) |  | No
§ 63.8(a)(4) | Monitoring | No | Flares not applicable.
§ 63.8(b)(1)-(3) | Conduct of Monitoring | Yes
§ 63.8(c)(1)(i) | CMS Operation/Maintenance | Yes before the relevant compliance date for your source as specified in § 63.7083(e) No on and after the relevant compliance date for your source as specified in § 63.7083(e) | On and after the relevant compliance date for your source as specified in § 63.7083(e), see § 63.7100 for OM&M requirements.
§ 63.8(c)(1)(ii) | CMS Spare Parts | Yes
§ 63.8(c)(1)(iii) | Requirement to Develop SSM Plan for CMS | Yes before the relevant compliance date for your source as specified in § 63.7083(e) No on and after the relevant compliance date for your source as specified in § 63.7083(e) | On and after the relevant compliance date for your source as specified in § 63.7083(e), no longer required.
§ 63.8(c)(2)-(3) | CMS Operation/Maintenance | Yes
§ 63.8(c)(4) | CMS Requirements | No | See § 63.7121.
§ 63.8(c)(4)(i)-(ii) | Cycle Time for COM and CEMS | Yes | No CEMS are required under subpart AAAAA; see § 63.7113 for CPMS requirements.
§ 63.8(c)(5) | Minimum COM procedures | Yes | COM not required.
§ 63.8(c)(6) | CMS Requirements | No | See § 63.7113.
§ 63.8(c)(7)-(8) | CMS Requirements | Yes
§ 63.8(d)(1)-(2) | Quality Control | Yes | See also § 63.7113.
§ 63.8(d)(3) | Quality Control | Yes before the relevant compliance date for your source as specified in § 63.7083(e) No on and after the relevant compliance date for your source as specified in § 63.7083(e)
§ 63.8(e) | Performance Evaluation for CMS | Yes | See also § 63.7113.
§ 63.8(f)(1)-(f)(5) | Alternative Monitoring Method | Yes
§ 63.8(f)(6) | Alternative to Relative Accuracy Test for CEMS | No | No CEMS required in subpart AAAAA.
§ 63.8(g)(1)-(g)(5) | Data Reduction; Data That Cannot Be Used | No | See data reduction requirements in §§ 63.7120 and 63.7121.
§ 63.9(a) | Notification Requirements | Yes | See § 63.7130.
§ 63.9(b) | Initial Notifications | Yes
§ 63.9(c) | Request for Compliance Extension | Yes
§ 63.9(d) | New Source Notification for Special Compliance Requirements | Yes
§ 63.9(e) | Notification of Performance Test | Yes
§ 63.9(f) | Notification of VE/Opacity Test | Yes | This requirement only applies to opacity and VE performance tests required in Table 5 to subpart AAAAA. Notification not required for VE/opacity test under Table 7 to subpart AAAAA.
§ 63.9(g) | Additional CMS Notifications | No | Not required for operating parameter monitoring.
§ 63.9(h)(1)-(h)(3) | Notification of Compliance Status | Yes
§ 63.9(h)(4) |  | No
§ 63.9(h)(5)-(h)(6) | Notification of Compliance Status | Yes
§ 63.9(i) | Adjustment of Deadlines | Yes
§ 63.9(j) | Change in Previous Information | Yes
§ 63.10(a) | Recordkeeping/Reporting General Requirements | Yes | See §§ 63.7131 through 63.7133.
§ 63.10(b)(1) | Records | Yes
§ 63.10(b)(2)(i) | Recordkeeping of Occurrence and Duration of Startups and Shutdowns | Yes before the relevant compliance date for your source as specified in § 63.7083(e) No on and after the relevant compliance date for your source as specified in § 63.7083(e)
§ 63.10(b)(2)(ii) | Recordkeeping of Failures to Meet a Standard | Yes before the relevant compliance date for your source as specified in § 63.7083(e) No on and after the relevant compliance date for your source as specified in § 63.7083(e) | On and after the relevant compliance date for your source as specified in § 63.7083(e), see § 63.7132 for recordkeeping of (1) date, time and duration; (2) listing of affected source or equipment, and an estimate of the quantity of each regulated pollutant emitted over the standard; and (3) actions to minimize emissions and correct the failure.
§ 63.10(b)(2)(iii) | Maintenance Records | Yes
§ 63.10(b)(2)(iv)-(v) | Actions Taken to Minimize Emissions During SSM | Yes before the relevant compliance date for your source as specified in § 63.7083(e) No on and after the relevant compliance date for your source as specified in § 63.7083(e) | On and after the relevant compliance date for your source as specified in § 63.7083(e), see § 63.7100 for OM&M requirements.
§ 63.10(b)(2)(vi)-(xii) | Recordkeeping for CMS | Yes
§ 63.10(b)(2)(xiii) | Records for Relative Accuracy Test | No
§ 63.10(b)(2)(xiv) | Records for Notification | Yes
§ 63.10(b)(3) | Applicability Determinations | Yes
§ 63.10(c) | Additional CMS Recordkeeping | No | See § 63.7132.
§ 63.10(d)(1) | General Reporting Requirements | Yes
§ 63.10(d)(2) | Performance Test Results | Yes
§ 63.10(d)(3) | Opacity or VE Observations | Yes | For the periodic monitoring requirements in Table 7 to subpart AAAAA, report according to § 63.10(d)(3) only if VE observed and subsequent visual opacity test is required.
§ 63.10(d)(4) | Progress Reports | Yes
§ 63.10(d)(5)(i) | Periodic Startup, Shutdown, Malfunction Reports | Yes before the relevant compliance date for your source as specified in § 63.7083(e) No on and after the relevant compliance date for your source as specified in § 63.7083(e) | On and after the relevant compliance date for your source as specified in § 63.7083(e), see § 63.7131 for malfunction reporting requirements.
§ 63.10(d)(5)(ii) | Immediate Startup, Shutdown, Malfunction Reports | Yes before the relevant compliance date for your source as specified in § 63.7083(e) No on and after the relevant compliance date for your source as specified in § 63.7083(e)
§ 63.10(e) | Additional CMS Reports | No | See specific requirements in subpart AAAAA, see § 63.7131.
§ 63.10(f) | Waiver for Recordkeeping/Reporting | Yes
§ 63.11(a)-(b) | Control Device and Work Practice Requirements | No | Flares not applicable.
§ 63.12(a)-(c) | State Authority and Delegations | Yes
§ 63.13(a)-(c) | State/Regional Addresses | Yes
§ 63.14(a)-(b) | Incorporation by Reference | No
§ 63.15(a)-(b) | Availability of Information and Confidentiality | Yes
§ 63.16 | Performance Track Provisions | Yes

§ 63.7831 [AMENDED]

30. In § 63.7831(f)(4), add the phrase “(incorporated by reference, see § 63.14)” immediately following the words “September 1997”.

[FR Doc. 2020-12588 Filed 7-23-20; 8:45 am]

BILLING CODE 6560-50-P